DEPARTMENT OF THE INTERIOR

Fish and Wildlife Service

50 CFR Part 20

RIN 1018-AV12

Migratory Bird Hunting; Proposed Frameworks for Early-Season Migratory Bird Hunting Regulations; Notice of Meetings

AGENCY: Fish and Wildlife Service, Interior.

ACTION: Proposed rule; supplemental.

SUMMARY: The U.S. Fish and Wildlife Service (hereinafter Service or we) is proposing to establish the 2007-08 early-season hunting regulations for certain migratory game birds. We annually prescribe frameworks, or outer limits, for dates and times when hunting may occur and the maximum number of birds that may be taken and possessed in early seasons. Early seasons may open as early as September 1, and include seasons in Alaska, Hawaii, Puerto Rico, and the U.S. Virgin Islands. These frameworks are necessary to allow State selections of specific final seasons and limits and to allow recreational harvest at levels compatible with population status and habitat conditions.

DATES: The Service Migratory Bird Regulations Committee will meet to consider and develop proposed regulations for late-season migratory bird hunting and the 2008 spring/summer migratory bird subsistence seasons in Alaska on August 1 and 2, 2007. All meetings will commence at approximately 8:30 a.m. You must submit comments on the proposed migratory bird hunting-season frameworks for Alaska, Hawaii, Puerto Rico, the Virgin Islands, and other early seasons by August 2, 2007, and for the forthcoming proposed late-season frameworks by August 30, 2007.

ADDRESSES: The Service Migratory Bird Regulations Committee will meet in room 200 of the U.S. Fish and Wildlife Service's Arlington Square Building, 4401 N. Fairfax Drive, Arlington, Virginia. Send your comments on the proposals to the Chief, Division of Migratory Bird Management, U.S. Fish and Wildlife Service, Department of the Interior, MS MBSP-4107-ARLSQ, 1849 C Street, NW., Washington, DC 20240. All comments received, including names and addresses, will become part of the public record. You may inspect comments during normal business hours at the Service's office in room 4107, 4501 N. Fairfax Drive, Arlington, Virginia.

FOR FURTHER INFORMATION CONTACT: Robert Blohm, Chief, or Ron W. Kokel, Division of Migratory Bird Management, U.S. Fish and Wildlife Service, (703) 358-1714.

SUPPLEMENTARY INFORMATION:

Regulations Schedule for 2007

On April 11, 2007, we published in the Federal Register (72 FR 18328) a proposal to amend 50 CFR part 20. The proposal provided a background and overview of the migratory bird hunting regulations process, and dealt with the establishment of seasons, limits, proposed regulatory alternatives for the 2007-08 duck hunting season, and other regulations for hunting migratory game birds under §§ 20.101 through 20.107, 20.109, and 20.110 of subpart K. Major steps in the 2007-08 regulatory cycle relating to open public meetings and Federal Register notifications were also identified in the April 11 proposed rule. Further, we explained that all sections of subsequent documents outlining hunting frameworks and guidelines were organized under numbered headings. As an aid to the reader, we reiterate those headings here:

1. Ducks

A. General Harvest Strategy

B. Regulatory Alternatives

C. Zones and Split Seasons

D. Special Seasons/Species Management

i. September Teal Seasons

ii. September Teal/Wood Duck Seasons

iii. Black Ducks

iv. Canvasbacks

v. Pintails

vi. Scaup

vii. Mottled Ducks

viii. Youth Hunt

2. Sea Ducks

3. Mergansers

4. Canada Geese

A. Special Seasons

B. Regular Seasons

C. Special Late Seasons

5. White-fronted Geese

6. Brant

7. Snow and Ross's (Light) Geese

8. Swans

9. Cranes

10. Coots

11. Moorhens and Gallinules

12. Rails

13. Snipe

14. Woodcock

15. Band-Tailed Pigeons

16. Mourning Doves

17. White-Winged and White-Tipped Doves

18. Alaska

19. Hawaii

20. Puerto Rico

21. Virgin Islands

22. Falconry

23. Other

Subsequent documents will refer only to numbered items requiring attention. Therefore, it is important to note that we will omit those items requiring no attention, and remaining numbered items will be discontinuous and appear incomplete.

On June 8, 2007, we published in the Federal Register (72 FR 31789) a second document providing supplemental proposals for early- and late-season migratory bird hunting regulations and the regulatory alternatives for the 2007-08 duck hunting season. The June 8 supplement also provided detailed information on the 2007-08 regulatory schedule and announced the Service Migratory Bird Regulations Committee (SRC) and Flyway Council meetings.

This document, the third in a series of proposed, supplemental, and final rulemaking documents for migratory bird hunting regulations, deals specifically with proposed frameworks for early-season regulations. It will lead to final frameworks from which States may select season dates, shooting hours, and daily bag and possession limits for the 2007-08 season. We have considered all pertinent comments received through July 6, 2007, on the April 11 and June 8, 2007, rulemaking documents in developing this document. In addition, new proposals for certain early-season regulations are provided for public comment. Comment periods are specified above under DATES. We will publish final regulatory frameworks for early seasons in the Federal Register on or about August 20, 2007.

Service Migratory Bird Regulations Committee Meetings

Participants at the June 20-21, 2007, meetings reviewed information on the current status of migratory shore and upland game birds and developed 2007-08 migratory game bird regulations recommendations for these species plus regulations for migratory game birds in Alaska, Puerto Rico, and the U.S. Virgin Islands; special September waterfowl seasons in designated States; special sea duck seasons in the Atlantic Flyway; and extended falconry seasons. In addition, we reviewed and discussed preliminary information on the status of waterfowl. Participants at the previously announced August 1-2, 2007, meetings will review information on the current status of waterfowl and develop recommendations for the 2007-08 regulations pertaining to regular waterfowl seasons and other species and seasons not previously discussed at the early-season meetings. In accordance with Department of the Interior policy, these meetings are open to public observation and you may submit comments to the Director on the matters discussed.

Population Status and Harvest

The following paragraphs provide preliminary information on the status of waterfowl and information on the status and harvest of migratory shore and upland game birds excerpted from various reports. For more detailed information on methodologies and results, you may obtain complete copies of the various reports at the address indicated under ADDRESSES or from our Web site at http://fws.gov/migratorybirds/reports.

May Breeding Waterfowl and Habitat Survey

Federal, provincial, and State agencies conduct surveys each spring to estimate the size of breeding populations and to evaluate the conditions of the habitats. These surveys are conducted using fixed-wing aircraft and helicopters and encompass principal breeding areas of North America, and cover over 2.0 million square miles. The Traditional survey area comprises Alaska, Canada, and the northcentral United States, and includes approximately 1.3 million square miles. The Eastern survey area includes parts of Ontario, Quebec, Labrador, Newfoundland, Nova Scotia, Prince Edward Island, New Brunswick, New York, and Maine, an area of approximately 0.7 million square miles.

Overall, habitat conditions for breeding waterfowl in 2007 are fairly similar or slightly improved compared to conditions in 2006.

Canadian Prairies

For the third year in a row, habitat conditions were good-to-excellent in the northern grasslands and parklands of southern Saskatchewan and southern Manitoba. Three years of plentiful precipitation has generally maintained or improved the quality of the wetland and upland vegetation in this region. However, some areas of the parklands of southern Saskatchewan experienced severe flooding due to record amounts of spring runoff. This runoff may have flooded some nests. The southern grasslands of Saskatchewan and Manitoba were dry, and in fair or poor condition. Conditions in southern Alberta, which have generally been fair or poor for much of the last decade, improved for the second consecutive year. Improvements this year came largely as a result of melting of large snowpacks and wet soil conditions, which caused above-average natural runoff volume in many river basins.

U.S. Prairies

Habitat conditions in U.S. prairies are highly variable, and mostly ranged from good to poor. The drought conditions seen last year in the Eastern Dakotas were improved by abundant fall and winter precipitation, especially in eastern South Dakota. Exceptionally heavy rain events during May helped to improve conditions in eastern Montana and parts of the Dakotas. Unfortunately, the area covered by the May rains did not include the high quality duck habitat of the Missouri Coteau region in the Eastern Dakotas. Although the May rains occurred after many ducks had moved through the survey area, the precipitation should benefit renesting birds and improve the quality of vegetation in wetlands and uplands, thereby aiding brood survival.

Bush (Alaska, Northern Manitoba, Northern Saskatchewan, Western Ontario)

Habitat in the bush regions of the traditional survey area were mostly classified as good due to a normal spring break-up and generally good water conditions in the beaver ponds, river deltas, and small lakes and ponds that are characteristic of this region. Spring phenology and water levels varied slightly in local areas. For example spring was slightly late in the Old Crow Flats, slightly early in the Yukon Delta, and it was slightly drier in the Yukon Flats compared to other regions in Alaska, but habitat conditions were still generally good across the bush region. The exceptions were the slightly drier conditions in northwest Saskatchewan and central Alberta. There is also the potential for some flooding in northern Saskatchewan and Manitoba.

Eastern Survey Area

The boreal forests of the eastern survey area were generally in good or excellent condition this spring, except for a few drier patches in Northern Quebec, that were in fair condition. Spring arrived early in the James and Hudson Bay Lowlands for the third consecutive year, and habitat conditions were classified as excellent. In eastern and southern Ontario, the winter snowpack was below normal, however, a good frost seal, spring runoff, and spring storms left this region in good condition at the time of the survey. Storms following the survey period produced local flooding of some nesting habitat. Wetland basins in Quebec were adequately charged and spring temperatures were near normal. There was some potential for flooding of nests in Maine and the Maritimes due to heavy rain during mid-May, but this was not as problematic as it has been during the past few years. Newfoundland and Labrador experienced a late spring compared to the last 5 years, with northernmost part of the survey region in Labrador still frozen in late May. However, this region was still considered to be in good condition.

Status of Teal

The estimate of blue-winged teal numbers from the Traditional Survey Area is 6.7 million. This represents a 14 percent increase from 2006 and is 48 percent above the 1955-2006 average.

Sandhill Cranes

Compared to increases recorded in the 1970s, annual indices to abundance of the Mid-Continent Population (MCP) of sandhill cranes have been relatively stable since the early 1980s. The Central Platte River Valley, Nebraska, spring index for 2007, uncorrected for visibility bias, was 302,600 sandhill cranes. The photo-corrected, 3-year average for 2004-06 was 378,420, which is within the established population-objective range of 349,000-472,000 cranes. All Central Flyway States, except Nebraska, allowed crane hunting in portions of their States during 2006-07. About 10,120 hunters participated in these seasons, which was similar to the number that participated in the previous year season. Hunters harvested 17,631 MCP cranes in the U.S. portion of the Central Flyway during the 2006-07 seasons, which was 3 percent lower than the estimated harvest for the previous year. The retrieved harvest of MCP cranes in hunt areas outside the Central Flyway (Arizona, New Mexico, Alaska, Canada, and Mexico combined) was estimated at 13,048 during 2006-07. The preliminary estimate for the North American MCP sport harvest, including crippling losses, was 35,341 birds, which is 3 percent lower than the previous year's estimate. The long-term (1982-2004) trends for the MCP indicate that harvest has been increasing at a higher rate than population growth.

The fall 2006 pre-migration survey for the Rocky Mountain Population (RMP) was not completed due to engine problems with the survey aircraft. The 3-year average for 2003-05 was 19,633 sandhill cranes, which is within established population objectives of 17,000-21,000 for the RMP. Hunting seasons during 2006-07 in portions of Arizona, Idaho, Montana, New Mexico, Utah, and Wyoming, resulted in a harvest of 907 RMP cranes, a 29 percent increase from the harvest of 702 the year before, and a record high harvest for this population.

Woodcock

Singing-ground and Wing-collection Surveys were conducted to assess the population status of the American woodcock (Scolopax minor). The Singing-ground Survey is intended to measure long-term changes in woodcock population levels. Singing-ground Survey data indicated that the numbers of displaying American woodcock in the Eastern Region in 2007 declined 11.6 percent from 2006; however, the Central Region was unchanged. We note that measurement of short-term (i.e., annual) trends tend to give estimates with larger variances and is more prone to be influenced by climatic factors that may affect local counts during the survey. For example, it is possible that the decrease observed in the Eastern Region this year may have been due in part to late season snowfalls that portions of the Northeast received after woodcock arrived on the breeding grounds.

There was no significant trend in woodcock heard in either the Eastern or Central Regions during 1997-2007. This represents the fourth consecutive year since 1992 that the 10-year trend estimate for either region did not indicate a significant decline. There were long-term (1968-2007) declines of 2.0 percent per year in the Eastern Region and 1.8 percent per year in the Central Region. Wing-collection survey data indicate that the 2006 recruitment index for the U.S. portion of the Eastern Region (1.5 immatures per adult female) was 7 percent lower than the 2005 index, and 8 percent lower than the long-term average. The recruitment index for the U.S. portion of the Central Region (1.6 immatures per adult female) was 11 percent higher than the 2005 index, and 2 percent higher than the long-term average.

Band-Tailed Pigeons and Doves

A rangewide survey for the Pacific Coast Band-tailed Pigeon Population was initiated on an experimental basis in 2001 and became operational in 2004. Pigeons are counted at selected mineral sites throughout their range in British Columbia, Washington, Oregon, and California. Results are used as an index to determine the population trend over time. Rangewide trend estimates showed an increase in Pacific Coast pigeons during 2001-2006 of over 10 percent/year. Pigeon counts at more than half of mineral sites (54 percent) increased in 2006. In 2006, there were 44 sites counted.

Breeding Bird Survey (BBS) data are used to monitor the Interior Band-tailed Pigeon Population. Analyses of BBS data over the most recent 10 years (1997-2006) showed a significant decline, while there was no trend indicated between 1968 and 2006. For the Pacific Coast Population, the preliminary 2006 harvest estimate from the Harvest Information Program (HIP) was 16,600 pigeons. For the Interior Population, the preliminary harvest estimate was 1,600 pigeons.

Analyses of Mourning Dove Call-count Survey data over the most recent 10 years indicated no significant trend for doves heard in either the Eastern or Western Management Units, while the Central Unit showed a significant decline. Over the 42-year period 1966-2007, all 3 units exhibited significant declines in mourning doves heard. In contrast, for doves seen over the 10-year period, no significant trends were found in any of the three Management Units. For doves seen over 42 years, no trend was found in the Eastern and Central Units, while a significant decline was indicated for the Western Unit. The preliminary 2006 harvest estimate for the United States was 19,245,300 doves, a 13 percent decrease from 2005. A banding project is underway to obtain current information in order to develop mourning dove population models for each unit to provide guidance for improving our decision-making process with respect to harvest management.

The two key states with a white-winged dove population are Arizona and Texas. California and New Mexico have much smaller populations. In Arizona, the white-winged dove population showed a significant decline between 1962 and 1980. To adjust harvest with population size, the bag limits, season length, and shooting hours have been reduced over the years, most recently in 1988. These regulations changes appear to have slowed the decline, and in recent years, the harvest has stabilized at around 110,000 birds per year. Arizona is currently experiencing the greatest drought in recorded history. In 2007, the Call-count index was 24.6. According to HIP surveys, the 2006 harvest estimate was 107,400 doves.

In Texas, white-winged doves continue to expand their breeding range and are even extending into the northeast part of the state. Nesting is essentially confined to urban areas, but appears to be expanding to exurban areas. Concomitant with this range expansion has been a dramatic increase in whitewing abundance. Moreover, because until recently, whitewing populations were not surveyed outside south Texas, the population increase has probably been even more dramatic. A new distance sampling protocol was implemented for Central and South Texas for 2007. It is anticipated that this protocol will be implemented statewide in 2008, which should give the ability to obtain a good estimate of white-winged dove abundance in Texas. The 2007 data were not available at the time of this report. However, 2006 surveys in Central Texas indicated a population in this region of 991,103 to 1,394,300 whitewings. Preliminary harvest estimates suggest that, during the 2006-07 season, 2,165,128 white-winged doves were harvested statewide. This includes approximately 278,000 whitewings harvested during the special white-winged dove season in the Special White-winged Dove Zone, and approximately 319,000 white-wings harvested during the same period outside the Special Zone. Total statewide harvest represents a slight, but not necessarily significant, change from the previous season of 1,840,536 whitewings.

In California, BBS data indicate that there has been a significant increase in the population between 1968 and 2006 while no trend was indicated over the most recent 10 years. According to HIP surveys, the preliminary harvest estimate for 2006 was 55,200. In New Mexico, both the long- and short-term trends show a significant increase. In 2006, the estimated harvest was 66,100 doves.

White-tipped doves are maintaining a relatively stable population in the Lower Rio Grande Valley of Texas. They are most abundant in cities and, for the most part, are not available to hunting. White-winged dove distance sampling in the Valley included white-tipped doves for the first time in 2007. However, these data were not available at the time of this report. Once available, they should provide, for the first time, an estimate of actual white-tipped dove abundance in Texas. During the 2006-07 season, an estimated total of 150,521 white-tipped doves were killed in Texas. This is essentially unchanged from the 2005-06 estimate of 144,302 doves.

Review of Public Comments

The preliminary proposed rulemaking (April 11 Federal Register) opened the public comment period for migratory game bird hunting regulations and announced the proposed regulatory alternatives for the 2007-08 duck hunting season. Comments concerning early-season issues and the proposed alternatives are summarized below and numbered in the order used in the April 11 Federal Register document. Only the numbered items pertaining to early-seasons issues and the proposed regulatory alternatives for which written comments were received are included. Consequently, the issues do not follow in consecutive numerical or alphabetical order.

We received recommendations from all four Flyway Councils. Some recommendations supported continuation of last year's frameworks. Due to the comprehensive nature of the annual review of the frameworks performed by the Councils, support for continuation of last year's frameworks is assumed for items for which no recommendations were received. Council recommendations for changes in the frameworks are summarized below.

We seek additional information and comments on the recommendations in this supplemental proposed rule. New proposals and modifications to previously described proposals are discussed below. Wherever possible, they are discussed under headings corresponding to the numbered items in the April 11 Federal Register document.

1. Ducks

Categories used to discuss issues related to duck harvest management are: (A) General Harvest Strategy; (B) Regulatory Alternatives, including specification of framework dates, season lengths, and bag limits; (C) Zones and Split Seasons; and (D) Special Seasons/Species Management. The categories correspond to previously published issues/discussions, and only those containing substantial recommendations are discussed below.

A. General Harvest Strategy

Council Recommendations: The Upper- and Lower-Region Regulations Committees of the Mississippi Flyway Council recommended that regulations changes be restricted to one step per year, both when restricting as well as liberalizing hunting regulations.

The Pacific Flyway Council recommended that the proposal developed by the Service for a revised protocol for managing the harvest of mallards in Western North America be implemented in 2008. The Council stated that this delay is needed to fully understand and pick a management objective, to incorporate explicit consideration of mallards derived from those portions of Alberta that contribute mallards to the Pacific Flyway, to determine how this strategy relates to Alaska's early season regulations, and to investigate the addition of alternative models.

Service Response: As we stated in the April 11 Federal Register, we intend to continue use of adaptive harvest management (AHM) to help determine appropriate duck-hunting regulations for the 2007-08 season. AHM is a tool that permits sound resource decisions in the face of uncertain regulatory impacts, as well as providing a mechanism for reducing that uncertainty over time. The current AHM protocol is used to evaluate four alternative regulatory levels based on the population status of mallards (special hunting restrictions are enacted for certain species, such as canvasbacks, scaup, and pintails).

In recent years, the prescribed regulatory alternative for the Pacific, Central, and Mississippi Flyways has been based on the status of mallards and breeding-habitat conditions in central North America (Federal survey strata 1-18, 20-50, and 75-77, and State surveys in Minnesota, Wisconsin, and Michigan). In the April 11 Federal Register, we also stated our intent for the 2007 hunting season to consider setting hunting regulations in the Pacific Flyway based on the status and dynamics of a newly defined stock of “western” mallards. For now, western mallards would be defined as those breeding in Alaska (as based on Federal surveys in strata 1-12), and in California and Oregon (as based on State-conducted surveys). However, upon further review of the issue, we agree with the Pacific Flyway Council's recommendation to delay implementation of the revised protocol for managing the harvest of mallards in Western North America until 2008 for the reasons identified by the Council. Delaying implementation of the revised protocol until 2008 should allow us and the Council to more effectively consider these management concerns.

Finally, since 2000, we have prescribed a regulatory alternative for the Atlantic Flyway based on the population status of mallards breeding in eastern North America (Federal survey strata 51-54 and 56, and State surveys in New England and the mid-Atlantic region). We will continue this protocol for the 2007-08 season.

Regarding incorporation of a one-step constraint into the AHM process, as we stated in the June 24, 2005, Federal Register (70 FR 36794), and last year in the May 30, 2006, Federal Register (71 FR 30786), our incorporation of a one-step constraint into the AHM process was addressed by the AHM Task Force of the International Association of Fish and Wildlife Agencies (IAFWA) in its report and recommendations. This recommendation will be included in considerations of potential changes to the set of regulatory alternatives at a yet to be determined later date.

We will propose a specific regulatory alternative for each of the Flyways during the 2007-08 season after survey information becomes available later this summer. More information on AHM is located at http://www.fws.gov/migratorybirds/mgmt/AHM/AHM-intro.htm.

D. Special Seasons/Species Management

i. September Teal Seasons

Utilizing the criteria developed for the teal season harvest strategy, this year's estimate of 6.7 million blue-winged teal from the Traditional Survey Area indicates that a 16-day September teal season is appropriate in 2007.

iii. Black Ducks

Council Recommendations: The Upper- and Lower-Region Regulations Committees of the Mississippi Flyway Council endorsed the draft International Harvest Strategy for Black Ducks developed by the Black Duck AHM Working Group until such time that a full AHM model is available and requested a dialogue with the Service on options for implementing harvest restrictions, assuming harvest restrictions are warranted.

Service Response: In the April 11 Federal Register we announced our intent to propose the specifics of a joint black duck harvest strategy with Canada in this rule. The draft strategy consisted of a maximum harvest rate for the continental black duck population, as well as criteria for maintaining approximate parity in harvest between the two countries. However, although the Mississippi Flyway Council approved the draft strategy, the Atlantic Flyway Council did not, due to concerns over several technical issues. Thus, further consultations are required between all parties to determine an acceptable upper limit to the overall harvest rate, procedures for determining whether the realized harvest rate is below this limit, procedures for determining whether the distribution of harvest between the countries is acceptable, and rules for changing regulations if the harvest-rate and parity criteria are not met. We will continue to work with the Black Duck Adaptive Harvest Management Working Group to refine the black duck strategy to address outstanding concerns. We hope to present a revised strategy to the Flyway Councils prior to their summer Flyway meetings.

v. Pintails

Council Recommendations: The Pacific Flyway Council recommended that the proposal developed by the Service for the addition of a compensatory model for Northern Pintail harvest management be incorporated in 2007 and that work continue on improving the harvest management decision-making process for pintail. Additionally, the Council urged the Service to complete its banding needs assessment and to work with the Flyways and the Canadian Wildlife Service to improve the basic biological data to more fully inform decision making.

Written Comments: An individual expressed support for liberalizing pintail limits as we continue to refine the pintail harvest strategy.

Service Response: We concur with the Pacific Flyway Council's proposal to incorporate a compensatory model of harvest into the existing pintail harvest strategy and agree that this strategy will benefit by including this alternative model. We also believe that further technical improvements should be pursued with the objective of achieving a more fully adaptive strategy in the future. Lastly, we appreciate the Council's continued support for improving this strategy and remain committed to making the best regulatory decisions possible based on application of the best scientific approaches we can cooperatively develop.

vi. Scaup

Council Recommendations: The Central Flyway Council recommended not implementing a scaup harvest strategy that uses an objective function based on Maximum Sustained Yield (MSY). They suggested that scaup regulatory alternatives for the Central Flyway in 2009 be based on the most recent 3-year running mean of the May Breeding Population estimates (BPOP) as follows:

a. BPOP mean > 4.0 million, daily bag limit of 3.

b. BPOP mean 3.25-4.0 million, daily bag limit of 2.

c. BPOP mean 2.5-3.25 million, daily bag limit of 1.

d. BPOP mean < 2.5 million, Hunter's Choice or 1-bird daily bag limit with a season-within-a-season.

The Pacific Flyway Council was supportive of the proposed approach outlined in the recently proposed Service assessment and decision-making framework to inform scaup harvest management, and endorsed a shoulder strategy of less than Maximum Sustained Yield (MSY). In developing regulation packages to implement the framework, the Council further requested recognition of flyway differences in scaup populations and harvest potential.

Written Comments: We received comments from the Atlantic, Mississippi, and Central Flyway Councils; wildlife agencies in the States of Iowa, Louisiana, Minnesota, Mississippi, North Dakota, Oklahoma, South Dakota, Texas, Wisconsin, and Wyoming; 5 non-governmental organizations; and 13 individuals. None of the commenters supported the implementation of the proposed scaup strategy at this time and all expressed various technical, biological, social, and policy concerns with the Service's scaup assessment and draft decision-making framework (summarized below).

Service Response: The continental scaup (greater Aythya marila and lesser Aythya affinis combined) population has experienced a long-term decline over the past 20 years. Over the past several years in particular, we have continued to express our growing concern about the status of scaup. Last year, we stated that we did not change scaup harvest regulations with the firm understanding that a draft harvest strategy would be available for Flyway Council review prior to the winter meetings (71 FR 55654, September 22, 2006) and be in place to guide development of scaup hunting regulations in 2007. As part of this effort, we developed an assessment framework that uses available data to help predict the effects of harvest and other uncontrollable environmental factors on the scaup population. After extensive review that we believe resulted in substantial improvements, the final technical assessment was presented during the Winter Flyway Technical Section meetings and made available for public review in the April 11 Federal Register. We stated then, and continue to believe, that this technical assessment represents an objective and comprehensive synthesis of data relevant to scaup harvest management and can help frame a scientifically-sound scaup harvest strategy. We note that results of the assessment suggest that a reduction in scaup harvest is commensurate with the current population status of scaup. Based on this updated technical assessment, a proposed scaup harvest strategy was made available for public review in the June 8 Federal Register. The proposed harvest strategy included initial Service recommendations on a harvest management objective and proposed Flyway-specific harvest allocations, as well as an additional analysis that predicted scaup harvest from various combinations of Flyway-specific season lengths and bag limits (www.fws.gov/migratorybirds/reports).

We received a number of comments on the proposed assessment. Some comments were very general in nature or related to fundamental concerns about the models we used or the assumptions we made in the assessment. Other comments were more specific and technical in nature. We have attempted to respond to the more general, broad-based comments, concerns, and issues in this proposed rule. A more detailed, technical response to other comments received can be found at (www.fws.gov/migratorybirds/reports).

Many of the comments concerned scaup population biology. However, it is important to recognize that a full understanding of these biological processes does not presently exist even for mallards, a species where we have accumulated a significant amount of information. The primary purpose of management models is to provide a tool to predict rather than to explain. If data are abundant, it may be possible to do both. But with scaup, and probably most other species besides mallards, we often must rely on more empirical models (i.e., models that lack details of biological processes). Nonetheless, these models must be well supported by data, allow us to make reasonable predictions, and be updated as experience allows. The logistic growth model is an empirical model that has proven to be robust for describing patterns in population abundance for a large variety of species and, in the case of scaup, efficiently uses available data.

Some commenters focused on the use of a yield curve, which depicts the relationship between sustainable harvests and breeding population size. Yield curves are derived from specific hypotheses concerning fundamental aspects of population biology. They underlie modern harvest theory and actually have been the basis for optimizing harvests and regulations in mid-continent and eastern mallards, black ducks, and other stocks for some time.

Another common misconception was that the proposed scaup harvest assessment uses a single model to describe scaup dynamics. The accounting for uncertainty is perhaps more obvious with other harvest assessment frameworks used by the Service, such as mid-continent mallards, because we use four discrete models with mechanistic names (e.g., additive hunting mortality and weakly density-dependent reproduction) to describe mallard population dynamics. Nonetheless, while the scaup assessment framework utilizes a single functional form (the logistic growth model), it still accounts for the high degree of uncertainty in the model parameters (e.g., carrying capacity, intrinsic rate of growth).

Several commenters questioned the need to restrict hunting opportunity if harvest is not likely the cause of the scaup population decline. We acknowledge that the decline in scaup since the early 1980s was most likely driven by large-scale changes in environmental conditions. Regardless, smaller populations have less harvestable surpluses than large populations, everything else being equal. In addition, harvest rates of scaup appear to have increased while the harvest potential of scaup appears to have declined. The proposed strategy seeks to make scaup harvest commensurate with current population status.

Several common concerns involved misconceptions about the assumptions we made in the assessment or disagreement with some of the associated inferences and underlying assumptions. The first was that within the proposed assessment framework, all scaup harvest is assumed to be additive because no correlation has been demonstrated between harvest and population size. We must note, however, that it is not possible to make any inference about additive hunting mortality with a correlation between harvest and population size without explicitly accounting for possible density-dependent and other environmental factors. We do acknowledge that a standard logistic model with harvest incorporated does assume that hunting mortality is additive. However, the logistic model upon which the assessment framework is based incorporates a scaling factor to allow for the possibility of compensatory harvest mortality. Additionally, the logistic model allows for compensation for hunting losses in subsequent breeding seasons through both the survival and recruitment processes.

The second concern related to inferences from the assessment was that the estimated carrying capacity (K) for scaup is 8.2 million when the population has never been that high. The scaup assessment suggests that population size would only reach this level in the complete absence of harvest and if there were no further deterioration in habitat conditions. Under the proposed assessment, we are the first to acknowledge that considerable uncertainty exists in the estimate of K (95% credibility interval for K is 5.7-12.2 million). However, for purposes of developing the harvest strategy for scaup, it is important to note that the uncertainty surrounding any estimate of K can be accounted for within the assessment framework.

The third concern was that the logistic model employed by the Service for scaup does not account for the fact that the reproductive value of some cohorts is higher than others and thus, for example, shooting a female has the same effect on the population as shooting a male. It is true that the logistic model does not distinguish among age-sex cohorts. Unfortunately, available data are not sufficient to support a more detailed model. In addition, accounting for age and sex-specific effects of hunting mortality would be of little practical use unless the age and sex composition of the harvest could be controlled, which we do not believe is the case.

A final concern was that the carrying capacity (K) of scaup is changing over time and, therefore, historical data cannot be used as a basis to determine allowable harvests. However, a review of historical data does suggest that scaup population dynamics have changed since the early 1980s and that this change has resulted in lower harvest potential. The assessment framework used permits model parameters like K to be updated annually so changes can be tracked. If history is not a useful guide to the future, no modeling effort based on data will provide useful information for harvest management. Further, in the absence of a model, decisions about hunting regulations would be subjective and not supported by our biological knowledge.

While we continue to support the technical assessment of scaup harvest potential, we are sensitive to the concerns expressed by the Flyway Councils about the policy and social aspects of implementation of the proposed strategy at this time. Specifically, we agree that more dialogue about the nature of harvest management objectives and regulatory alternatives is necessary for successful implementation of the strategy. Failure to agree on crucial policy aspects of the proposed strategy in a timely fashion increases the risk that more drastic regulatory measures may be necessary in the future. In preparation for that dialogue, we reiterate our longstanding objections to State-specific regulations and encourage the Flyway Councils to focus efforts on achieving consensus around Flyway-wide regulatory alternatives. Secondly, we recognize that additional effort is necessary over the coming year to communicate the rationale for a scaup strategy and possible regulatory changes to the Flyways and the public. We intend to review progress on policy issues at the winter 2008 SRC meeting and anticipate significant progress by that time.

Having considered all of these concerns, we agree that another year is needed to develop consensus on a harvest strategy for scaup. We believe that one year is sufficient time to resolve all outstanding issues and it is our intent to implement a strategy in 2008. This does not preclude the possibility that we would consider possible changes to scaup harvest regulations for the 2007-08 hunting season, based on population status. We will work with the Flyway Councils to resolve outstanding issues and to continue ongoing cooperative efforts to improve the monitoring programs and databases upon which scaup regulatory decisions are based. These include: Evaluation of potential biases in population estimates, expansion and improvement of population surveys, and a feasibility assessment of a broad-scale scaup banding program. Additionally, we will continue retrospective analyses of existing databases to assist in the identification of casual factors which might explain the continued scaup decline.

Finally, we acknowledge that many misconceptions about our technical assessment of scaup harvest potential exist and commit to continued work with the Flyway Councils to reach a common understanding about the true strengths, limitations, and implications of this framework. Throughout this process, we will continue to incorporate reviews or model refinements that are supported by data.

4. Canada Geese

A. Special Seasons

Council Recommendations: The Atlantic Flyway Council made several recommendations dealing with early Canada goose seasons. First, the Council recommended allowing the experimental seasons in portions of Florida, Georgia, New York, North Carolina, South Carolina, and Vermont to become operational in 2007. Lastly, the Council recommended that the Service allow the use of special regulations (electronic calls, unplugged guns, extended hunting hours) later than September 15 during existing September Canada goose hunting seasons in Atlantic Flyway States. Use of these special regulations would be limited to the geographic areas of States that were open to hunting and under existing September season ending dates as approved by the Service for the 2007 regulation cycle.

The Upper- and Lower-Region Regulations Committees of the Mississippi Flyway Council recommended that the closing dates for Canada goose hunting during the September goose season in the Northwest goose zone of Minnesota be extended through September 22 to coincide with the remainder of the state with a waiver of the experimental season requirements of collecting Canada goose parts.

Service Response: We support the Atlantic Flyway Council's request to make the experimental seasons in portions of Florida, Georgia, New York, North Carolina, South Carolina, and Vermont operational in 2007. Data and analysis submitted by the Council shows a minimal impact of these seasons on migrant stocks of Canada geese and demonstrates that they meet the criteria for establishment of special early Canada goose hunting seasons.

We also support the Atlantic Flyway Council's desire to increase opportunities to harvest resident Canada geese during special early Canada goose hunting seasons. In many areas of the Flyway, resident Canada geese remain overabundant. Recent spring population surveys continue to estimate that approximately 1 million geese reside in the States of the Atlantic Flyway—a number far in excess of the Flyway's established goal of 650,000 resident geese. Allowing the use of these special expanded hunting methods would be consistent with our August 10, 2006, final rule on resident Canada goose management (71 FR 45964) and November 2005 Final Environmental Impact Statement on resident Canada goose management, would have a minimal impact on migrant Canada goose populations, would contribute to maximizing the harvest of resident Canada geese in the Flyway, would allow greater flexibility to affected States, would be consistent with the Atlantic Flyway Resident Canada Goose Management Plan, and would provide a simplified, consistent set of regulations throughout the September Canada goose season.

We do not support the Mississippi Flyway Council's request to extend the framework closing date for the September goose season in the Northwest Goose Zone of Minnesota to September 22. Special September Canada goose seasons were implemented for the purpose of controlling local breeding populations or nuisance geese that nest primarily in the conterminous United States (60 FR 45021). Prior to 1995, in order to implement a special season, each State was required to conduct a 3-year evaluation to determine whether the take of non-target Canada goose populations (migrants) exceeded 10 percent of the harvest. This evaluation requirement was removed in 1995 for special seasons held September 1-15, but remained in effect for all such seasons, or extensions of seasons, after September 15.

In 1999, Minnesota received approval to initiate a 3-year experimental extension of the September goose season from September 15-22. Minnesota was granted a 1-year extension of the experiment in 2002. Minnesota's experiment did not include the Northwest Goose Zone, due to concerns (at that time) about the status and potential impacts to migrant Canada geese, particularly Eastern Prairie Population (EPP) Canada geese. While parts collection, harvest, and banding data obtained in the evaluation of Minnesota's experiment indicated that migrant geese in areas adjacent to the Northwest Goose Zone comprised less than 5 percent of the harvest, granting an extension of the framework closing date without conducting an experiment would be contrary to established criteria for such seasons. Although the magnitude of expected harvest of migrant geese during September 16-22 in the Northwest Goose Zone is small, a waiver of the evaluation criteria will likely invite requests for similar waivers. Further, we recognize that collection of sufficient parts collection and harvest data in the Northwest zone is problematic. However, we are open to working with Minnesota to develop an appropriate evaluation plan.

B. Regular Seasons

Council Recommendations: The Upper- and Lower-Region Regulations Committees of the Mississippi Flyway Council recommended that the framework opening date for all species of geese for the regular goose seasons in Michigan and Wisconsin be September 16, 2007.

Service Response: We concur. As we stated last year (71 FR 51406), we agree with the objective to increase harvest pressure on resident Canada geese in the Mississippi Flyway and will continue to consider the opening dates in both States as exceptions to the general Flyway opening date, to be reconsidered annually.

9. Sandhill Cranes

Council Recommendations: The Central and Pacific Flyway Councils recommended using the 2006 Rocky Mountain Population sandhill crane harvest allocation of 1,321 birds, as proposed in the allocation formula, using the 2003-2005 3-year running average.

The Pacific Flyway Council recommended initiating a limited hunt for Lower Colorado River sandhill cranes in Arizona, with the goal of the hunt being a limited harvest of 5 cranes in January. To limit harvest, Arizona would issue permits to hunters and require mandatory check of all harvested cranes. To limit disturbance of wintering cranes, Arizona would restrict the hunt to one 3-day period. Arizona would also coordinate with the National Wildlife Refuges where cranes occur.

Service Response: Greater and lesser sandhill cranes are presently hunted in parts of their range and have been divided into management populations based on their geographic distribution during Fall and Winter. The current Flyway Management Plan for the Lower Colorado River Valley Population (LCRVP) of sandhill cranes allows for hunting of this population when the wintering population exceeds 2,500 cranes, a population level now exceeded. In 2005, the Pacific Flyway Council proposed a limited open season on this population. In response to proposal, we stated in the August 29, 2006, Federal Register (71 FR 51406) that while we were in general support of allowing a very limited, carefully controlled harvest of sandhill cranes from this population, we did not believe that this limited harvest was of immediate concern, and recommended that prior to initiating such a season, a more detailed harvest strategy be developed by the Flyway Council. We stated that this harvest strategy should be included as an appendix to the management plan prior to any hunting season being initiated. The Pacific Flyway has modified the management plan as recommended.

We prepared a draft environmental assessment (DEA) considering the action to begin a limited harvest of sandhill cranes from the LCRVP by reviewing current management strategies and population objectives, and examining alternatives to current management programs. The preferred alternative in the DEA was to institute the limited season. We made this DEA available for public comment and received only two responses. We have addressed these comments and prepared a final environmental assessment (FEA).

Based on our FEA, we will authorize a limited experimental season for this population of sandhill cranes as requested by the Pacific Flyway Council. All of the described requirements in the management plan and the FEA will apply to this 3-year experiment. Further, we will work with the participating Pacific Flyway States to meet the monitoring and assessment requirements described in the management plan for the evaluation of this experimental season. In addition, we encourage the participating States to work with us to improve our understanding and management of this important group of sandhill cranes.

The FEA can be obtained by writing Robert Trost, Pacific Flyway Representative, U.S. Fish and Wildlife Service, Division of Migratory Bird Management, 911 NE 11th Avenue, Portland, Oregon 97232-4181, or it may be viewed via the Service's home page at http://fws.gov/migratorybirds/reports.

14. Woodcock

Council Recommendations: The Atlantic Flyway Council recommended allowing compensatory days for woodcock hunting in States where Sunday hunting is prohibited by State law.

Service Response: In 1995, the Atlantic Flyway Council asked the Service to reconsider its longstanding policy of denying compensatory days to those States that forego hunting opportunity due to State laws that prohibit Sunday hunting. We agreed to work with the Flyway Council to “frame” or better clarify this issue with regard to aspects such as Federal authority, number of States involved, migratory birds affected, harvest impacts, framework adjustments, etc. In 1997, the Council again requested that we grant compensatory days for States in their Flyway that were closed to waterfowl hunting statewide on Sunday by State law. The Council's requested compensatory days applied to waterfowl seasons only and not to other migratory game birds (62 FR 44234). We granted this request and stipulated that all Sundays would be closed to all take of migratory waterfowl and that other migratory game species were not eligible for compensatory days. Furthermore, only States in the Atlantic Flyway that prohibited Sunday hunting statewide by State law prior to 1997 were eligible for compensatory days for waterfowl.

We are sensitive to the Atlantic Flyway's desire to provide additional woodcock hunting opportunity, and acknowledge the longstanding difficulties some States have in reversing statutes that prevent hunting on Sundays. However, granting a request for compensatory days for hunting American woodcock would be contrary to the agreement reached between the Service and the Flyway Council that limited granting of compensatory days to waterfowl hunting. We also note that the ability to hunt on Sundays may provide more opportunities for hunter recruitment than the allowance of compensatory days.

Further, we do not view this as a good time to liberalize woodcock regulations. Although we cannot attribute a cause-and-effect relationship between 1997 woodcock harvest restrictions and improved woodcock population status, the stabilization of woodcock trends in both the Eastern and Central Region is encouraging.

16. Mourning Doves

Council Recommendations: The Atlantic Flyway Council and the Upper- and Lower-Region Regulations Committees of the Mississippi Flyway Council recommended that, based on criteria set forth in the current version of the Mourning Dove Harvest Management Strategy for the Eastern Management Unit (EMU), no changes in bag limit and season length components of the mourning dove harvest framework are warranted. They both further recommended that EMU States should be offered the choice of either a 12-bird daily bag limit and 70-day season or a 15-bird daily bag limit and 60-day season for the 2007-08 mourning dove hunting season, with a standardized 15-bird daily bag limit and 70-day season beginning with the 2008-09 mourning dove hunting season. The standardized bag limit and season length will then be used as the “moderate” harvest option for revising the Initial Mourning Dove Harvest Management Strategy.

Service Response: We concur with the recommendation to maintain the current bag limit and season length options of 70 days with a 12-bird daily bag limit or 60 days with a 15-bird daily bag for the 2007-08 season. However, we recommend that the proposal to standardize this framework as a 70-day season length with a 15-bird daily bag limit, beginning with the 2008-09 season, be included in ongoing discussions on the interim harvest strategy for the Eastern Management Unit, rather than considered at this time. While it is our understanding that this framework represents the “moderate” harvest option for the Eastern Unit's harvest strategy, we anticipate that these interim strategies, representing each of the three management units, will be introduced at the January 2008 SRC meeting, and formally proposed and finalized prior to the early-season SRC meeting next June.

18. Alaska

Council Recommendations: The Pacific Flyway Council recommended maintaining status quo in the Alaska early-season framework, except for increasing the dark goose daily bag limit in selected units to provide more harvest opportunity for white-fronted geese.

Service Response: We concur. Pacific white-fronted geese are nearly 70 percent above current management objectives at 509,000 birds. The Council's proposed liberalization of white-front limits to as many as 6 per day within most of the range is consistent with liberalizations in Pacific Flyway coastal states. Further, the Council's recommendation is crafted to avoid additional harvest in units where Tule white-fronts occur (Units 1-16), and retains the restrictions on cackling geese on the primary breeding and staging areas (Unit 9E and 18) because the population is below objective.

Public Comments Solicited

The Department of the Interior's policy is, whenever practicable, to afford the public an opportunity to participate in the rulemaking process. Accordingly, we invite interested persons to submit written comments, suggestions, or recommendations regarding the proposed regulations. Before promulgation of final migratory game bird hunting regulations, we will take into consideration all comments received. Such comments, and any additional information received, may lead to final regulations that differ from these proposals. We invite interested persons to participate in this rulemaking by submitting written comments to the address indicated under the caption ADDRESSES. Before including your address, phone number, e-mail address, or other personal identifying information in your comment, you should be aware that your entire comment—including your personal identifying information—may be made publicly available at any time. While you can ask us in your comment to withhold your personal identifying information from public review, we cannot guarantee that we will be able to do so.

Special circumstances involved in the establishment of these regulations limit the amount of time that we can allow for public comment. Specifically, two considerations compress the time in which the rulemaking process must operate: (1) The need to establish final rules at a point early enough in the summer to allow affected State agencies to appropriately adjust their licensing and regulatory mechanisms; and (2) the unavailability, before mid-June, of specific, reliable data on this year's status of some waterfowl and migratory shore and upland game bird populations. Therefore, we believe that to allow comment periods past the dates specified in DATES is contrary to the public interest. Before promulgation of final migratory game bird hunting regulations, we will take into consideration all comments received during the comment period. Such comments, and any additional information received, may lead to final regulations that differ from these proposals.

You may inspect comments received on the proposed annual regulations during normal business hours at the Service's Division of Migratory Bird Management office in room 4107, 4501 North Fairfax Drive, Arlington, VA 22203. For each series of proposed rulemakings, we will establish specific comment periods. We will consider, but possibly may not respond in detail to, each comment. As in the past, we will summarize all comments received during the comment period and respond to them after the closing date in any final rules.

NEPA Consideration

NEPA considerations are covered by the programmatic document “Final Supplemental Environmental Impact Statement: Issuance of Annual Regulations Permitting the Sport Hunting of Migratory Birds (FSES 88-14),” filed with the Environmental Protection Agency on June 9, 1988. We published a notice of availability in the Federal Register on June 16, 1988 (53 FR 22582). We published our Record of Decision on August 18, 1988 (53 FR 31341). In addition, an August 1985 environmental assessment entitled “Guidelines for Migratory Bird Hunting Regulations on Federal Indian Reservations and Ceded Lands” is available (see ADDRESSES).

In a notice published in the September 8, 2005, Federal Register (70 FR 53376), we announced our intent to develop a new Supplemental Environmental Impact Statement for the migratory bird hunting program. Public scoping meetings were held in the spring of 2006, as detailed in a March 9, 2006, Federal Register (71 FR 12216). A scoping report summarizing the scoping comments and scoping meetings is available either at the address indicated under ADDRESSES or on our Web site at http://www.fws.gov/migratorybirds.

Endangered Species Act Consideration

Prior to issuance of the 2007-08 migratory game bird hunting regulations, we will comply with provisions of the Endangered Species Act of 1973, as amended (16 U.S.C. 1531-1543; hereinafter, the Act), to ensure that hunting is not likely to jeopardize the continued existence of any species designated as endangered or threatened, or modify or destroy its critical habitat, and is consistent with conservation programs for those species. Consultations under Section 7 of this Act may cause us to change proposals in this and future supplemental rulemaking documents.

Executive Order 12866

The migratory bird hunting regulations are economically significant and were reviewed by the Office of Management and Budget (OMB) under Executive Order 12866. As such, a cost/benefit analysis was initially prepared in 1981. This analysis was subsequently revised annually from 1990 through 1996, updated in 1998, and updated again in 2004. It is further discussed below under the heading Regulatory Flexibility Act. Results from the 2004 analysis indicate that the expected welfare benefit of the annual migratory bird hunting frameworks is on the order of $734 to $1,064 million, with a midpoint estimate of $899 million. Copies of the cost/benefit analysis are available upon request from the address indicated under ADDRESSES or from our Web site at http://www.fws.gov/migratorybirds/reports/SpecialTopics/EconomicAnalysis-Final-2004.pdf.

Executive Order 12866 also requires each agency to write regulations that are easy to understand. We invite comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more sections? (5) Is the description of the rule in the “Supplementary Information” section of the preamble helpful in understanding the rule? (6) What else could we do to make the rule easier to understand?

Send a copy of any comments that concern how we could make this rule easier to understand to: Office of Regulatory Affairs, Department of the Interior, Room 7229, 1849 C Street, NW., Washington, DC 20240, or e-mail to Exsec@ios.doi.gov.

Regulatory Flexibility Act

These regulations have a significant economic impact on substantial numbers of small entities under the Regulatory Flexibility Act (5 U.S.C. 601 et seq.). We analyzed the economic impacts of the annual hunting regulations on small business entities in detail as part of the 1981 cost-benefit analysis discussed under Executive Order 12866. This analysis was revised annually from 1990 through 1995. In 1995, the Service issued a Small Entity Flexibility Analysis (Analysis), which was subsequently updated in 1996, 1998, and 2004. The primary source of information about hunter expenditures for migratory game bird hunting is the National Hunting and Fishing Survey, which is conducted at 5-year intervals. The 2004 Analysis was based on the 2001 National Hunting and Fishing Survey and the U.S. Department of Commerce's County Business Patterns, from which it was estimated that migratory bird hunters would spend between $481 million and $1.2 billion at small businesses in 2004. Copies of the Analysis are available upon request from the address indicated under ADDRESSES or from our Web site at http://www.fws.gov/migratorybirds/reports/SpecialTopics/EconomicAnalysis-Final-2004.pdf.

Small Business Regulatory Enforcement Fairness Act

This rule is a major rule under 5 U.S.C. 804(2), the Small Business Regulatory Enforcement Fairness Act. For the reasons outlined above, this rule has an annual effect on the economy of $100 million or more. However, because this rule establishes hunting seasons, we do not plan to defer the effective date under the exemption contained in 5 U.S.C. 808 (1).

Paperwork Reduction Act

We examined these regulations under the Paperwork Reduction Act of 1995. The various recordkeeping and reporting requirements imposed under regulations established in 50 CFR part 20, Subpart K, are utilized in the formulation of migratory game bird hunting regulations. Specifically, OMB has approved the information collection requirements of the surveys associated with the Migratory Bird Harvest Information Program and assigned clearance number 1018-0015 (expires 2/29/2008). This information is used to provide a sampling frame for voluntary national surveys to improve our harvest estimates for all migratory game birds in order to better manage these populations. OMB has also approved the information collection requirements of the Sandhill Crane Harvest Survey and assigned clearance number 1018-0023 (expires 11/30/2007). The information from this survey is used to estimate the magnitude and the geographical and temporal distribution of the harvest, and the portion it constitutes of the total population. A Federal agency may not conduct or sponsor and a person is not required to respond to a collection of information unless it displays a currently valid OMB control number.

Unfunded Mandates Reform Act

We have determined and certify, in compliance with the requirements of the Unfunded Mandates Reform Act, 2 U.S.C. 1502 et seq., that this rulemaking will not impose a cost of $100 million or more in any given year on local or State government or private entities. Therefore, this rule is not a “significant regulatory action” under the Unfunded Mandates Reform Act.

Civil Justice Reform—Executive Order 12988

The Department, in promulgating this proposed rule, has determined that this proposed rule will not unduly burden the judicial system and that it meets the requirements of sections 3(a) and 3(b)(2) of Executive Order 12988.

Takings Implication Assessment

In accordance with Executive Order 12630, this proposed rule, authorized by the Migratory Bird Treaty Act, does not have significant takings implications and does not affect any constitutionally protected property rights. This rule will not result in the physical occupancy of property, the physical invasion of property, or the regulatory taking of any property. In fact, these rules allow hunters to exercise otherwise unavailable privileges and, therefore, reduce restrictions on the use of private and public property.

Energy Effects—Executive Order 13211

On May 18, 2001, the President issued Executive Order 13211 on regulations that significantly affect energy supply, distribution, and use. Executive Order 13211 requires agencies to prepare Statements of Energy Effects when undertaking certain actions. While this proposed rule is a significant regulatory action under Executive Order 12866, it is not expected to adversely affect energy supplies, distribution, or use. Therefore, this action is not a significant energy action and no Statement of Energy Effects is required.

Federalism Effects

Due to the migratory nature of certain species of birds, the Federal Government has been given responsibility over these species by the Migratory Bird Treaty Act. We annually prescribe frameworks from which the States make selections regarding the hunting of migratory birds, and we employ guidelines to establish special regulations on Federal Indian reservations and ceded lands. This process preserves the ability of the States and tribes to determine which seasons meet their individual needs. Any State or Indian tribe may be more restrictive than the Federal frameworks at any time. The frameworks are developed in a cooperative process with the States and the Flyway Councils. This process allows States to participate in the development of frameworks from which they will make selections, thereby having an influence on their own regulations. These rules do not have a substantial direct effect on fiscal capacity, change the roles or responsibilities of Federal or State governments, or intrude on State policy or administration. Therefore, in accordance with Executive Order 13132, these regulations do not have significant federalism effects and do not have sufficient federalism implications to warrant the preparation of a Federalism Assessment.

Government-to-Government Relationship With Tribes

Due to the migratory nature of certain species of birds, the Federal Government has been given responsibility over these species by the Migratory Bird Treaty Act. Thus, in accordance with the President's memorandum of April 29, 1994, “Government-to-Government Relations with Native American Tribal Governments” (59 FR 22951), Executive Order 13175, and 512 DM 2, we have evaluated possible effects on Federally recognized Indian tribes and have determined that there are no effects on Indian trust resources. However, in the April 11 proposed rule we solicited proposals for special migratory bird hunting regulations for certain Tribes on Federal Indian reservations, off-reservation trust lands, and ceded lands for the 2006-07 migratory bird hunting season. The resulting proposals will be contained in a separate proposed rule. By virtue of these actions, we have consulted with all the tribes affected by this rule.

List of Subjects in 50 CFR Part 20

Exports, Hunting, Imports, Reporting and recordkeeping requirements, Transportation, Wildlife.

The rules that eventually will be promulgated for the 2007-08 hunting season are authorized under 16 U.S.C. 703-712 and 16 U.S.C. 742 a-j.

Dated: July 13, 2007.
David M. Verhey,
Acting Assistant Secretary for Fish and Wildlife and Parks.

Proposed Regulations Frameworks for 2007-08 Early Hunting Seasons on Certain Migratory Game Birds

Pursuant to the Migratory Bird Treaty Act and delegated authorities, the Department of the Interior approved the following proposed frameworks, which prescribe season lengths, bag limits, shooting hours, and outside dates within which States may select hunting seasons for certain migratory game birds between September 1, 2007, and March 10, 2008.

General

Dates: All outside dates noted below are inclusive.

Shooting and Hawking (taking by falconry) Hours: Unless otherwise specified, from one-half hour before sunrise to sunset daily.

Possession Limits: Unless otherwise specified, possession limits are twice the daily bag limit.

Flyways and Management Units

Waterfowl Flyways

Atlantic Flyway—includes Connecticut, Delaware, Florida, Georgia, Maine, Maryland, Massachusetts, New Hampshire, New Jersey, New York, North Carolina, Pennsylvania, Rhode Island, South Carolina, Vermont, Virginia, and West Virginia.

Mississippi Flyway—includes Alabama, Arkansas, Illinois, Indiana, Iowa, Kentucky, Louisiana, Michigan, Minnesota, Mississippi, Missouri, Ohio, Tennessee, and Wisconsin.

Central Flyway—includes Colorado (east of the Continental Divide), Kansas, Montana (Counties of Blaine, Carbon, Fergus, Judith Basin, Stillwater, Sweetgrass, Wheatland, and all counties east thereof), Nebraska, New Mexico (east of the Continental Divide except the Jicarilla Apache Indian Reservation), North Dakota, Oklahoma, South Dakota, Texas, and Wyoming (east of the Continental Divide).

Pacific Flyway—includes Alaska, Arizona, California, Idaho, Nevada, Oregon, Utah, Washington, and those portions of Colorado, Montana, New Mexico, and Wyoming not included in the Central Flyway.

Management Units

Mourning Dove Management Units

Eastern Management Unit—All States east of the Mississippi River, and Louisiana.

Central Management Unit—Arkansas, Colorado, Iowa, Kansas, Minnesota, Missouri, Montana, Nebraska, New Mexico, North Dakota, Oklahoma, South Dakota, Texas, and Wyoming.

Western Management Unit—Arizona, California, Idaho, Nevada, Oregon, Utah, and Washington.

Woodcock Management Regions

Eastern Management Region—Connecticut, Delaware, Florida, Georgia, Maine, Maryland, Massachusetts, New Hampshire, New Jersey, New York, North Carolina, Pennsylvania, Rhode Island, South Carolina, Vermont, Virginia, and West Virginia.

Central Management Region—Alabama, Arkansas, Illinois, Indiana, Iowa, Kansas, Kentucky, Louisiana, Michigan, Minnesota, Mississippi, Missouri, Nebraska, North Dakota, Ohio, Oklahoma, South Dakota, Tennessee, Texas, and Wisconsin.

Other geographic descriptions are contained in a later portion of this document.

Definitions

Dark geese: Canada geese, white-fronted geese, brant (except in Alaska, California, Oregon, Washington, and the Atlantic Flyway), and all other goose species except light geese.

Light geese: snow (including blue) geese and Ross' geese.

Waterfowl Seasons in the Atlantic Flyway

In the Atlantic Flyway States of Connecticut, Delaware, Maine, Maryland, Massachusetts, New Jersey, North Carolina, Pennsylvania, and Virginia, where Sunday hunting is prohibited statewide by State law, all Sundays are closed to all take of migratory waterfowl (including mergansers and coots).

Special September Teal Season

Outside Dates: Between September 1 and September 30, an open season on all species of teal may be selected by the following States in areas delineated by State regulations:

Atlantic Flyway—Delaware, Florida, Georgia, Maryland, North Carolina, South Carolina, and Virginia.

Mississippi Flyway—Alabama, Arkansas, Illinois, Indiana, Kentucky, Louisiana, Mississippi, Missouri, Ohio, and Tennessee.

Central Flyway—Colorado (part), Kansas, Nebraska (part), New Mexico (part), Oklahoma, and Texas.

Hunting Seasons and Daily Bag Limits: Not to exceed 9 consecutive days in the Atlantic Flyway and 16 consecutive days in the Mississippi and Central Flyways. The daily bag limit is 4 teal.

Shooting Hours:

Atlantic Flyway—One-half hour before sunrise to sunset except in Maryland, where the hours are from sunrise to sunset.

Mississippi and Central Flyways—One-half hour before sunrise to sunset, except in the States of Arkansas, Illinois, Indiana, Missouri, and Ohio, where the hours are from sunrise to sunset.

Special September Duck Seasons

Florida, Kentucky and Tennessee: In lieu of a special September teal season, a 5-consecutive-day season may be selected in September. The daily bag limit may not exceed 4 teal and wood ducks in the aggregate, of which no more than 2 may be wood ducks.

Iowa: Iowa may hold up to 5 days of its regular duck hunting season in September. All ducks that are legal during the regular duck season may be taken during the September segment of the season. The September season segment may commence no earlier than the Saturday nearest September 20 (September 22). The daily bag and possession limits will be the same as those in effect last year, but are subject to change during the late-season regulations process. The remainder of the regular duck season may not begin before October 10.

Special Youth Waterfowl Hunting Days

Outside Dates: States may select two consecutive days (hunting days in Atlantic Flyway States with compensatory days) per duck-hunting zone, designated as “Youth Waterfowl Hunting Days,” in addition to their regular duck seasons. The days must be held outside any regular duck season on a weekend, holidays, or other non-school days when youth hunters would have the maximum opportunity to participate. The days may be held up to 14 days before or after any regular duck-season frameworks or within any split of a regular duck season, or within any other open season on migratory birds.

Daily Bag Limits: The daily bag limits may include ducks, geese, mergansers, coots, moorhens, and gallinules and would be the same as those allowed in the regular season. Flyway species and area restrictions would remain in effect.

Shooting Hours: One-half hour before sunrise to sunset.

Participation Restrictions: Youth hunters must be 15 years of age or younger. In addition, an adult at least 18 years of age must accompany the youth hunter into the field. This adult may not duck hunt but may participate in other seasons that are open on the special youth day.

Scoter, Eider, and Oldsquaw Ducks (Atlantic Flyway)

Outside Dates: Between September 15 and January 31.

Hunting Seasons and Daily Bag Limits: Not to exceed 107 days, with a daily bag limit of 7, singly or in the aggregate, of the listed sea-duck species, of which no more than 4 may be scoters.

Daily Bag Limits During the Regular Duck Season: Within the special sea duck areas, during the regular duck season in the Atlantic Flyway, States may choose to allow the above sea duck limits in addition to the limits applying to other ducks during the regular duck season. In all other areas, sea ducks may be taken only during the regular open season for ducks and are part of the regular duck season daily bag (not to exceed 4 scoters) and possession limits.

Areas: In all coastal waters and all waters of rivers and streams seaward from the first upstream bridge in Maine, New Hampshire, Massachusetts, Rhode Island, Connecticut, and New York; in any waters of the Atlantic Ocean and in any tidal waters of any bay which are separated by at least 1 mile of open water from any shore, island, and emergent vegetation in New Jersey, South Carolina, and Georgia; and in any waters of the Atlantic Ocean and in any tidal waters of any bay which are separated by at least 800 yards of open water from any shore, island, and emergent vegetation in Delaware, Maryland, North Carolina, and Virginia; and provided that any such areas have been described, delineated, and designated as special sea-duck hunting areas under the hunting regulations adopted by the respective States.

Special Early Canada Goose Seasons

Atlantic Flyway

General Seasons

Canada goose seasons of up to 15 days during September 1-15 may be selected for the Eastern Unit of Maryland and Delaware. Seasons not to exceed 25 days during September 1-25 may be selected for the Montezuma Region of New York and the Lake Champlain Region of New York and Vermont. Seasons not to exceed 30 days during September 1-30 may be selected for Connecticut, Florida, Georgia, New Jersey, New York (Long Island Zone), North Carolina, Rhode Island, and South Carolina. Seasons may not exceed 25 days during September 1-25 in the remainder of the Flyway. Areas open to the hunting of Canada geese must be described, delineated, and designated as such in each State's hunting regulations.

Daily Bag Limits: Not to exceed 15 Canada geese.

Mississippi Flyway

General Seasons

Canada goose seasons of up to 15 days during September 1-15 may be selected, except in the Upper Peninsula in Michigan, where the season may not extend beyond September 10, and in Minnesota (except in the Northwest Goose Zone), where a season of up to 22 days during September 1-22 may be selected. The daily bag limit may not exceed 5 Canada geese. Areas open to the hunting of Canada geese must be described, delineated, and designated as such in each State's hunting regulations.

A Canada goose season of up to 10 consecutive days during September 1-10 may be selected by Michigan for Huron, Saginaw, and Tuscola Counties, except that the Shiawassee National Wildlife Refuge, Shiawassee River State Game Area Refuge, and the Fish Point Wildlife Area Refuge will remain closed. The daily bag limit may not exceed 5 Canada geese.

Central Flyway

General Seasons

In Kansas, Nebraska, Oklahoma, South Dakota, and Texas, Canada goose seasons of up to 30 days during September 1-30 may be selected. In Colorado, New Mexico, North Dakota, Montana, and Wyoming, Canada goose seasons of up to 15 days during September 1-15 may be selected. The daily bag limit may not exceed 5 Canada geese. Areas open to the hunting of Canada geese must be described, delineated, and designated as such in each State's hunting regulations.

Pacific Flyway

General Seasons

California may select a 9-day season in Humboldt County during the period September 1-15. The daily bag limit is 2.

Colorado may select a 9-day season during the period of September 1-15. The daily bag limit is 3.

Oregon may select a special Canada goose season of up to 15 days during the period September 1-15. In addition, in the NW goose management zone in Oregon, a 15-day season may be selected during the period September 1-20. Daily bag limits may not exceed 5 Canada geese.

Idaho may select a 7-day season during the period September 1-15. The daily bag limit is 2 and the possession limit is 4.

Washington may select a special Canada goose season of up to 15 days during the period September 1-15. Daily bag limits may not exceed 5 Canada geese.

Wyoming may select an 8-day season on Canada geese between September 1-15. This season is subject to the following conditions:

1. Where applicable, the season must be concurrent with the September portion of the sandhill crane season.

2. A daily bag limit of 2, with season and possession limits of 4, will apply to the special season.

Areas open to hunting of Canada geese in each State must be described, delineated, and designated as such in each State's hunting regulations.

Regular Goose Seasons

Regular goose seasons may open as early as September 16 in Wisconsin and Michigan. Season lengths, bag and possession limits, and other provisions will be established during the late-season regulations process.

Sandhill Cranes

Regular Seasons in the Central Flyway:

Outside Dates: Between September 1 and February 28.

Hunting Seasons: Seasons not to exceed 37 consecutive days may be selected in designated portions of North Dakota (Area 2) and Texas (Area 2). Seasons not to exceed 58 consecutive days may be selected in designated portions of the following States: Colorado, Kansas, Montana, North Dakota, South Dakota, and Wyoming. Seasons not to exceed 93 consecutive days may be selected in designated portions of the following States: New Mexico, Oklahoma, and Texas.

Daily Bag Limits: 3 sandhill cranes, except 2 sandhill cranes in designated portions of North Dakota (Area 2) and Texas (Area 2).

Permits: Each person participating in the regular sandhill crane seasons must have a valid Federal sandhill crane hunting permit and/or, in those States where a Federal sandhill crane permit is not issued, a State-issued Harvest Information Survey Program (HIP) certification for game bird hunting in their possession while hunting.

Special Seasons in the Central and Pacific Flyways: Arizona, Colorado, Idaho, Montana, New Mexico, Utah, and Wyoming may select seasons for hunting sandhill cranes within the range of the Rocky Mountain Population (RMP) subject to the following conditions:

Outside Dates: Between September 1 and January 31.

Hunting Seasons: The season in any State or zone may not exceed 30 days.

Bag limits: Not to exceed 3 daily and 9 per season.

Permits: Participants must have a valid permit, issued by the appropriate State, in their possession while hunting.

Other provisions: Numbers of permits, open areas, season dates, protection plans for other species, and other provisions of seasons must be consistent with the management plan and approved by the Central and Pacific Flyway Councils, with the following exceptions:

1. In Utah, the requirement for monitoring the racial composition of the harvest in the experimental season is waived, and 100 percent of the harvest will be assigned to the RMP quota;

2. In Arizona, monitoring the racial composition of the harvest must be conducted at 3-year intervals;

3. In Idaho, seasons are experimental, and the requirement for monitoring the racial composition of the harvest is waived; 100 percent of the harvest will be assigned to the RMP quota; and

4. In New Mexico, the season in the Estancia Valley is experimental, with a requirement to monitor the level and racial composition of the harvest; greater sandhill cranes in the harvest will be assigned to the RMP quota.

Special Seasons in the Pacific Flyway:

Arizona may select a season for hunting sandhill cranes within the range of the Lower Colorado River Population (LCR) of sandhill cranes, subject to the following conditions:

Outside Dates: Between January 1 and January 31.

Hunting Seasons: The season may not exceed 3 days.

Bag limits: Not to exceed 1 daily and 1 per season.

Permits: Participants must have a valid permit, issued by the appropriate State, in their possession while hunting.

Other provisions: The season is experimental. Numbers of permits, open areas, season dates, protection plans for other species, and other provisions of seasons must be consistent with the management plan and approved by the Pacific Flyway Council.

Common Moorhens and Purple Gallinules

Outside Dates: Between September 1 and the last Sunday in January (January 27) in the Atlantic, Mississippi and Central Flyways. States in the Pacific Flyway have been allowed to select their hunting seasons between the outside dates for the season on ducks; therefore, they are late-season frameworks, and no frameworks are provided in this document.

Hunting Seasons and Daily Bag Limits: Seasons may not exceed 70 days in the Atlantic, Mississippi, and Central Flyways. Seasons may be split into 2 segments. The daily bag limit is 15 common moorhens and purple gallinules, singly or in the aggregate of the two species.

Zoning: Seasons may be selected by zones established for duck hunting.

Rails

Outside Dates: States included herein may select seasons between September 1 and the last Sunday in January (January 27) on clapper, king, sora, and Virginia rails.

Hunting Seasons: The season may not exceed 70 days, and may be split into 2 segments.

Daily Bag Limits:

Clapper and King Rails—In Rhode Island, Connecticut, New Jersey, Delaware, and Maryland, 10, singly or in the aggregate of the 2 species. In Texas, Louisiana, Mississippi, Alabama, Georgia, Florida, South Carolina, North Carolina, and Virginia, 15, singly or in the aggregate of the two species.

Sora and Virginia Rails—In the Atlantic, Mississippi, and Central Flyways and the Pacific-Flyway portions of Colorado, Montana, New Mexico, and Wyoming, 25 daily and 25 in possession, singly or in the aggregate of the two species. The season is closed in the remainder of the Pacific Flyway.

Common Snipe

Outside Dates: Between September 1 and February 28, except in Maine, Vermont, New Hampshire, Massachusetts, Rhode Island, Connecticut, New York, New Jersey, Delaware, Maryland, and Virginia, where the season must end no later than January 31.

Hunting Seasons and Daily Bag Limits: Seasons may not exceed 107 days and may be split into two segments. The daily bag limit is 8 snipe.

Zoning: Seasons may be selected by zones established for duck hunting.

American Woodcock

Outside Dates: States in the Eastern Management Region may select hunting seasons between October 1 and January 31. States in the Central Management Region may select hunting seasons between the Saturday nearest September 22 (September 22) and January 31.

Hunting Seasons and Daily Bag Limits: Seasons may not exceed 30 days in the Eastern Region and 45 days in the Central Region. The daily bag limit is 3. Seasons may be split into two segments.

Zoning: New Jersey may select seasons in each of two zones. The season in each zone may not exceed 24 days.

Band-Tailed Pigeons

Pacific Coast States (California, Oregon, Washington, and Nevada)

Outside Dates: Between September 15 and January 1.

Hunting Seasons and Daily Bag Limits: Not more than 9 consecutive days, with a daily bag limit of 2 band-tailed pigeons.

Zoning: California may select hunting seasons not to exceed 9 consecutive days in each of two zones. The season in the North Zone must close by October 3.

Four-Corners States (Arizona, Colorado, New Mexico, and Utah)

Outside Dates: Between September 1 and November 30.

Hunting Seasons and Daily Bag Limits: Not more than 30 consecutive days, with a daily bag limit of 5 band-tailed pigeons.

Zoning: New Mexico may select hunting seasons not to exceed 20 consecutive days in each of two zones. The season in the South Zone may not open until October 1.

Mourning Doves

Outside Dates: Between September 1 and January 15, except as otherwise provided, States may select hunting seasons and daily bag limits as follows:

Eastern Management Unit

Hunting Seasons and Daily Bag Limits: Not more than 70 days with a daily bag limit of 12 mourning and white-winged doves in the aggregate, or not more than 60 days with a bag limit of 15 mourning and white-winged doves in the aggregate.

Zoning and Split Seasons: States may select hunting seasons in each of two zones. The season within each zone may be split into not more than three periods. Regulations for bag and possession limits, season length, and shooting hours must be uniform within specific hunting zones.

Central Management Unit

Hunting Seasons and Daily Bag Limits: Not more than 70 days with a daily bag limit of 12 mourning and white-winged doves in the aggregate, or not more than 60 days with a bag limit of 15 mourning and white-winged doves in the aggregate.

Zoning and Split Seasons: States may select hunting seasons in each of two zones. The season within each zone may be split into not more than three periods.

Texas may select hunting seasons for each of three zones subject to the following conditions:

A. The hunting season may be split into not more than two periods, except in that portion of Texas in which the special white-winged dove season is allowed, where a limited mourning dove season may be held concurrently with that special season (see white-winged dove frameworks).

B. A season may be selected for the North and Central Zones between September 1 and January 25; and for the South Zone between September 20 and January 25.

C. Daily bag limits are aggregate bag limits with mourning, white-winged, and white-tipped doves (see white-winged dove frameworks for specific daily bag limit restrictions).

D. Except as noted above, regulations for bag and possession limits, season length, and shooting hours must be uniform within each hunting zone.

Western Management Unit

Hunting Seasons and Daily Bag Limits: Idaho, Oregon, and Washington—Not more than 30 consecutive days with a daily bag limit of 10 mourning doves.

Utah—Not more than 30 consecutive days with a daily bag limit that may not exceed 10 mourning doves and white-winged doves in the aggregate.

Nevada—Not more than 30 consecutive days with a daily bag limit of 10 mourning doves, except in Clark and Nye Counties, where the daily bag limit may not exceed 10 mourning and white-winged doves in the aggregate.

Arizona and California—Not more than 60 days, which may be split between two periods, September 1-15 and November 1-January 15. In Arizona, during the first segment of the season, the daily bag limit is 10 mourning and white-winged doves in the aggregate, of which no more than 6 may be white-winged doves. During the remainder of the season, the daily bag limit is 10 mourning doves. In California, the daily bag limit is 10 mourning doves, except in Imperial, Riverside, and San Bernardino Counties, where the daily bag limit may not exceed 10 mourning and white-winged doves in the aggregate.

White-Winged and White-Tipped Doves

Hunting Seasons and Daily Bag Limits:

Except as shown below, seasons must be concurrent with mourning dove seasons.

Eastern Management Unit: The daily bag limit may not exceed 12 (15 under the alternative) mourning and white-winged doves in the aggregate.

Central Management Unit:

In Texas, the daily bag limit may not exceed 12 mourning, white-winged, and white-tipped doves (15 under the alternative) in the aggregate, of which no more than 2 may be white-tipped doves. In addition, Texas also may select a hunting season of not more than 4 days for the special white-winged dove area of the South Zone between September 1 and September 19. The daily bag limit may not exceed 12 white-winged, mourning, and white-tipped doves in the aggregate, of which no more than 4 may be mourning doves and 2 may be white-tipped doves.

In the remainder of the Central Management Unit, the daily bag limit may not exceed 12 (15 under the alternative) mourning and white-winged doves in the aggregate.

Western Management Unit:

Arizona may select a hunting season of not more than 30 consecutive days, running concurrently with the first segment of the mourning dove season. The daily bag limit may not exceed 10 mourning and white-winged doves in the aggregate, of which no more than 6 may be white-winged doves.

In Utah, the Nevada Counties of Clark and Nye, and in the California Counties of Imperial, Riverside, and San Bernardino, the daily bag limit may not exceed 10 mourning and white-winged doves in the aggregate.

In the remainder of the Western Management Unit, the season is closed.

Alaska

Outside Dates: Between September 1 and January 26.

Hunting Seasons: Alaska may select 107 consecutive days for waterfowl, sandhill cranes, and common snipe in each of 5 zones. The season may be split without penalty in the Kodiak Zone. The seasons in each zone must be concurrent.

Closures: The hunting season is closed on emperor geese, spectacled eiders, and Steller's eiders.

Daily Bag and Possession Limits:

Ducks—Except as noted, a basic daily bag limit of 7 and a possession limit of 21 ducks. Daily bag and possession limits in the North Zone are 10 and 30, and in the Gulf Coast Zone, they are 8 and 24. The basic limits may include no more than 1 canvasback daily and 3 in possession and may not include sea ducks.

In addition to the basic duck limits, Alaska may select sea duck limits of 10 daily, 20 in possession, singly or in the aggregate, including no more than 6 each of either harlequin or long-tailed ducks. Sea ducks include scoters, common and king eiders, harlequin ducks, long-tailed ducks, and common and red-breasted mergansers.

Light Geese—A basic daily bag limit of 4 and a possession limit of 8.

Dark Geese—A basic daily bag limit of 4 and a possession limit of 8.

Dark-goose seasons are subject to the following exceptions:

1. In Units 5 and 6, the taking of Canada geese is permitted from September 28 through December 16.

2. On Middleton Island in Unit 6, a special, permit-only Canada goose season may be offered. No more than 10 permits can be issued. A mandatory goose identification class is required. Hunters must check in and check out. The bag limit is 1 daily and 1 in possession. The season will close if incidental harvest includes 5 dusky Canada geese. A dusky Canada goose is any dark-breasted Canada goose (Munsell 10 YR color value five or less) with a bill length between 40 and 50 millimeters.

3. In Units 9, 10, 17 and 18, dark goose limits are 6 per day, 12 in possession; however, no more than 2 may be Canada geese in Units 9(E) and 18; and no more than 4 may be Canada geese in Units 9(A-C), 10 (Unimak Island portion), and 17.

Brant—A daily bag limit of 2.

Common snipe—A daily bag limit of 8.

Sandhill cranes—Bag and possession limits of 2 and 4, respectively, in the Southeast, Gulf Coast, Kodiak, and Aleutian Zones, and Unit 17 in the Northern Zone. In the remainder of the Northern Zone (outside Unit 17), bag and possession limits of 3 and 6, respectively.

Tundra Swans—Open seasons for tundra swans may be selected subject to the following conditions:

1. All seasons are by registration permit only.

2. All season framework dates are September 1—October 31.

3. In Game Management Unit (GMU) 17, no more than 200 permits may be issued during this operational season. No more than 3 tundra swans may be authorized per permit with no more than 1 permit issued per hunter per season.

4. In Game Management Unit (GMU) 18, no more than 500 permits may be issued during the operational season. Up to 3 tundra swans may be authorized per permit. No more than 1 permit may be issued per hunter per season.

5. In GMU 22, no more than 300 permits may be issued during the operational season. Each permittee may be authorized to take up to 3 tundra swan per permit. No more than 1 permit may be issued per hunter per season.

6. In GMU 23, no more than 300 permits may be issued during the operational season. No more than 3 tundra swans may be authorized per permit with no more than 1 permit issued per hunter per season.

Hawaii

Outside Dates: Between October 1 and January 31.

Hunting Seasons: Not more than 65 days (75 under the alternative) for mourning doves.

Bag Limits: Not to exceed 15 (12 under the alternative) mourning doves.

Note: Mourning doves may be taken in Hawaii in accordance with shooting hours and other regulations set by the State of Hawaii, and subject to the applicable provisions of 50 CFR part 20.

Puerto Rico

Doves and Pigeons:

Outside Dates: Between September 1 and January 15.

Hunting Seasons: Not more than 60 days.

Daily Bag and Possession Limits: Not to exceed 15 Zenaida, mourning, and white-winged doves in the aggregate, of which not more than 3 may be mourning doves. Not to exceed 5 scaly-naped pigeons.

Closed Areas: There is no open season on doves or pigeons in the following areas: Municipality of Culebra, Desecheo Island, Mona Island, El Verde Closure Area, and Cidra Municipality and adjacent areas.

Ducks, Coots, Moorhens, Gallinules, and Snipe:

Outside Dates: Between October 1 and January 31.

Hunting Seasons: Not more than 55 days may be selected for hunting ducks, common moorhens, and common snipe. The season may be split into two segments.

Daily Bag Limits:

Ducks—Not to exceed 6.

Common moorhens—Not to exceed 6.

Common snipe—Not to exceed 8.

Closed Seasons: The season is closed on the ruddy duck, white-cheeked pintail, West Indian whistling duck, fulvous whistling duck, and masked duck, which are protected by the Commonwealth of Puerto Rico. The season also is closed on the purple gallinule, American coot, and Caribbean coot.

Closed Areas: There is no open season on ducks, common moorhens, and common snipe in the Municipality of Culebra and on Desecheo Island.

Virgin Islands

Doves and Pigeons

Outside Dates: Between September 1 and January 15.

Hunting Seasons: Not more than 60 days for Zenaida doves.

Daily Bag and Possession Limits: Not to exceed 10 Zenaida doves.

Closed Seasons: No open season is prescribed for ground or quail doves, or pigeons in the Virgin Islands.

Closed Areas: There is no open season for migratory game birds on Ruth Cay (just south of St. Croix).

Local Names for Certain Birds: Zenaida dove, also known as mountain dove; bridled quail-dove, also known as Barbary dove or partridge; Common ground-dove, also known as stone dove, tobacco dove, rola, or tortolita; scaly-naped pigeon, also known as red-necked or scaled pigeon.

Ducks

Outside Dates: Between December 1 and January 31.

Hunting Seasons: Not more than 55 consecutive days.

Daily Bag Limits: Not to exceed 6.

Closed Seasons: The season is closed on the ruddy duck, white-cheeked pintail, West Indian whistling duck, fulvous whistling duck, and masked duck.

Special Falconry Regulations

Falconry is a permitted means of taking migratory game birds in any State meeting Federal falconry standards in 50 CFR 21.29(k). These States may select an extended season for taking migratory game birds in accordance with the following:

Extended Seasons: For all hunting methods combined, the combined length of the extended season, regular season, and any special or experimental seasons must not exceed 107 days for any species or group of species in a geographical area. Each extended season may be divided into a maximum of 3 segments.

Framework Dates: Seasons must fall between September 1 and March 10.

Daily Bag and Possession Limits: Falconry daily bag and possession limits for all permitted migratory game birds must not exceed 3 and 6 birds, respectively, singly or in the aggregate, during extended falconry seasons, any special or experimental seasons, and regular hunting seasons in all States, including those that do not select an extended falconry season.

Regular Seasons: General hunting regulations, including seasons and hunting hours, apply to falconry in each State listed in 50 CFR 21.29(k). Regular-season bag and possession limits do not apply to falconry. The falconry bag limit is not in addition to gun limits.

Area, Unit, and Zone Descriptions

Mourning and White-Winged Doves

Alabama

South Zone—Baldwin, Barbour, Coffee, Covington, Dale, Escambia, Geneva, Henry, Houston, and Mobile Counties.

North Zone—Remainder of the State.

California

White-winged Dove Open Areas—Imperial, Riverside, and San Bernardino Counties.

Florida

Northwest Zone—The Counties of Bay, Calhoun, Escambia, Franklin, Gadsden, Gulf, Holmes, Jackson, Liberty, Okaloosa, Santa Rosa, Walton, Washington, Leon (except that portion north of U.S. 27 and east of State Road 155), Jefferson (south of U.S. 27, west of State Road 59 and north of U.S. 98), and Wakulla (except that portion south of U.S. 98 and east of the St. Marks River).

South Zone—Remainder of State.

Louisiana

North Zone—That portion of the state north of a line extending east from the Texas border along State Highway 12 to U.S. Highway 190, east along U.S. 190 to Interstate Highway 12, east along Interstate 12 to Interstate Highway 10, then east along Interstate 10 to the Mississippi border.

South Zone—The remainder of the State.

Mississippi

North Zone—That portion of the State north and west of a line extending west from the Alabama State line along U.S. Highway 84 to its junction with State Highway 35, then south along State Highway 35 to the Louisiana State line.

South Zone—The remainder of Mississippi.

Nevada

White-winged Dove Open Areas—Clark and Nye Counties.

Oklahoma

North Zone—That portion of the State north of a line extending east from the Texas border along U.S. Highway 62 to Interstate 44, east along Oklahoma State Highway 7 to U.S. Highway 81, then south along U.S. Highway 81 to the Texas border at the Red River.

South Zone—The remainder of Oklahoma.

Texas

North Zone—That portion of the State north of a line beginning at the International Bridge south of Fort Hancock; north along FM 1088 to TX 20; west along TX 20 to TX 148; north along TX 148 to I-10 at Fort Hancock; east along I-10 to I-20; northeast along I-20 to I-30 at Fort Worth; northeast along I-30 to the Texas-Arkansas State line.

South Zone—That portion of the State south and west of a line beginning at the International Bridge south of Del Rio, proceeding east on U.S. 90 to State Loop 1604 west of San Antonio; then south, east, and north along Loop 1604 to Interstate Highway 10 east of San Antonio; then east on I-10 to Orange, Texas.

Special White-winged Dove Area in the South Zone—That portion of the State south and west of a line beginning at the International Bridge south of Del Rio, proceeding east on U.S. 90 to State Loop 1604 west of San Antonio, southeast on State Loop 1604 to Interstate Highway 35, southwest on Interstate Highway 35 to TX 44; east along TX 44 to TX 16 at Freer; south along TX 16 to TX 285 at Hebbronville; east along TX 285 to FM 1017; southwest along FM 1017 to TX 186 at Linn; east along TX 186 to the Mansfield Channel at Port Mansfield; east along the Mansfield Channel to the Gulf of Mexico.

Area with additional restrictions—Cameron, Hidalgo, Starr, and Willacy Counties.

Central Zone—That portion of the State lying between the North and South Zones.

Band-Tailed Pigeons

California

North Zone—Alpine, Butte, Del Norte, Glenn, Humboldt, Lassen, Mendocino, Modoc, Plumas, Shasta, Sierra, Siskiyou, Tehama, and Trinity Counties.

South Zone—The remainder of the State.

New Mexico

North Zone—North of a line following U.S. 60 from the Arizona State line east to I-25 at Socorro and then south along I-25 from Socorro to the Texas State line.

South Zone—Remainder of the State.

Washington

Western Washington—The State of Washington excluding those portions lying east of the Pacific Crest Trail and east of the Big White Salmon River in Klickitat County.

Woodcock

New Jersey

North Zone—That portion of the State north of NJ 70.

South Zone—The remainder of the State.

Special September Canada Goose Seasons

Atlantic Flyway

Connecticut

North Zone—That portion of the State north of I-95.

South Zone—Remainder of the State.

Maryland

Eastern Unit—Anne Arundel, Calvert, Caroline, Cecil, Charles, Dorchester, Harford, Kent, Queen Anne's, St. Mary's, Somerset, Talbot, Wicomico, and Worcester Counties; that portion of Prince Georges, Howard, and Baltimore Counties east of Interstate 95.

Western Unit—Allegany, Carroll, Frederick, Garrett, Montgomery, and Washington Counties; that portion of Prince Georges, Howard, and Baltimore Counties west of Interstate 95.

Massachusetts

Western Zone—That portion of the State west of a line extending south from the Vermont border on I-91 to MA 9, west on MA 9 to MA 10, south on MA 10 to U.S. 202, south on U.S. 202 to the Connecticut border.

Central Zone—That portion of the State east of the Berkshire Zone and west of a line extending south from the New Hampshire border on I-95 to U.S. 1, south on U.S. 1 to I-93, south on I-93 to MA 3, south on MA 3 to U.S. 6, west on U.S. 6 to MA 28, west on MA 28 to I-195, west to the Rhode Island border; except the waters, and the lands 150 yards inland from the high-water mark, of the Assonet River upstream to the MA 24 bridge, and the Taunton River upstream to the Center St.-Elm St. bridge will be in the Coastal Zone.

Coastal Zone—That portion of Massachusetts east and south of the Central Zone.

New York

Lake Champlain Zone—The U.S. portion of Lake Champlain and that area east and north of a line extending along NY 9B from the Canadian border to U.S. 9, south along U.S. 9 to NY 22 south of Keesville; south along NY 22 to the west shore of South Bay, along and around the shoreline of South Bay to NY 22 on the east shore of South Bay; southeast along NY 22 to U.S. 4, northeast along U.S. 4 to the Vermont border.

Long Island Zone—That area consisting of Nassau County, Suffolk County, that area of Westchester County southeast of I-95, and their tidal waters.

Western Zone—That area west of a line extending from Lake Ontario east along the north shore of the Salmon River to I-81, and south along I-81 to the Pennsylvania border, except for the Montezuma Zone.

Montezuma Zone—Those portions of Cayuga, Seneca, Ontario, Wayne, and Oswego Counties north of U.S. Route 20, east of NYS Route 14, south of NYS Route 104, and west of NYS Route 34.

Northeastern Zone—That area north of a line extending from Lake Ontario east along the north shore of the Salmon River to I-81, south along I-81 to NY 49, east along NY 49 to NY 365, east along NY 365 to NY 28, east along NY 28 to NY 29, east along NY 29 to I-87, north along I-87 to U.S. 9 (at Exit 20), north along U.S. 9 to NY 149, east along NY 149 to U.S. 4, north along U.S. 4 to the Vermont border, exclusive of the Lake Champlain Zone.

Southeastern Zone—The remaining portion of New York.

North Carolina

Northeast Hunt Unit—Camden, Chowan, Currituck, Dare, Hyde, Pasquotank, Perquimans, Tyrrell, and Washington Counties; that portion of Bertie County north and east of a line formed by NC 45 at the Washington County line to U.S. 17 in Midway, U.S. 17 in Midway to U.S. 13 in Windsor to the Hertford County line; and that portion of Northampton County that is north of U.S. 158 and east of NC 35.

Vermont

Lake Champlain Zone: The U.S. portion of Lake Champlain and that area north and west of the line extending from the New York border along U.S. 4 to VT 22A at Fair Haven; VT 22A to U.S. 7 at Vergennes; U.S. 7 to the Canadian border.

Interior Zone: That portion of Vermont west of the Lake Champlain Zone and eastward of a line extending from the Massachusetts border at Interstate 91; north along Interstate 91 to U.S. 2; east along U.S. 2 to VT 102; north along VT 102 to VT 253; north along VT 253 to the Canadian border.

Connecticut River Zone: The remaining portion of Vermont east of the Interior Zone.

Mississippi Flyway

Illinois

Northeast Canada Goose Zone—Cook, Du Page, Grundy, Kane, Kankakee, Kendall, Lake, McHenry, and Will Counties.

North Zone: That portion of the State outside the Northeast Canada Goose Zone and north of a line extending west from the Indiana border along Peotone-Beecher Road to Illinois Route 50, south along Illinois Route 50 to Wilmington-Peotone Road, west along Wilmington-Peotone Road to Illinois Route 53, north along Illinois Route 53 to New River Road, northwest along New River Road to Interstate Highway 55, south along I-55 to Pine Bluff-Lorenzo Road, west along Pine Bluff—Lorenzo Road to Illinois Route 47, north along Illinois Route 47 to I-80, west along I-80 to I-39, south along I-39 to Illinois Route 18, west along Illinois Route 18 to Illinois Route 29, south along Illinois Route 29 to Illinois Route 17, west along Illinois Route 17 to the Mississippi River, and due south across the Mississippi River to the Iowa border.

Central Zone: That portion of the State outside the Northeast Canada Goose Zone and south of the North Zone to a line extending west from the Indiana border along Interstate Highway 70 to Illinois Route 4, south along Illinois Route 4 to Illinois Route 161, west along Illinois Route 161 to Illinois Route 158, south and west along Illinois Route 158 to Illinois Route 159, south along Illinois Route 159 to Illinois Route 156, west along Illinois Route 156 to A Road, north and west on A Road to Levee Road, north on Levee Road to the south shore of New Fountain Creek, west along the south shore of New Fountain Creek to the Mississippi River, and due west across the Mississippi River to the Missouri border.

South Zone: The remainder of Illinois.

Iowa

North Zone: That portion of the State north of U.S. Highway 20.

South Zone: The remainder of Iowa.

Cedar Rapids/Iowa City Goose Zone. Includes portions of Linn and Johnson Counties bounded as follows: Beginning at the intersection of the west border of Linn County and Linn County Road E2W; thence south and east along County Road E2W to Highway 920; thence north along Highway 920 to County Road E16; thence east along County Road E16 to County Road W58; thence south along County Road W58 to County Road E34; thence east along County Road E34 to Highway 13; thence south along Highway 13 to Highway 30; thence east along Highway 30 to Highway 1; thence south along Highway 1 to Morse Road in Johnson County; thence east along Morse Road to Wapsi Avenue; thence south along Wapsi Avenue to Lower West Branch Road; thence west along Lower West Branch Road to Taft Avenue; thence south along Taft Avenue to County Road F62; thence west along County Road F62 to Kansas Avenue; thence north along Kansas Avenue to Black Diamond Road; thence west on Black Diamond Road to Jasper Avenue; thence north along Jasper Avenue to Rohert Road; thence west along Rohert Road to Ivy Avenue; thence north along Ivy Avenue to 340th Street; thence west along 340th Street to Half Moon Avenue; thence north along Half Moon Avenue to Highway 6; thence west along Highway 6 to Echo Avenue; thence north along Echo Avenue to 250th Street; thence east on 250th Street to Green Castle Avenue; thence north along Green Castle Avenue to County Road F12; thence west along County Road F12 to County Road W30; thence north along County Road W30 to Highway 151; thence north along the Linn-Benton County line to the point of beginning.

Des Moines Goose Zone. Includes those portions of Polk, Warren, Madison and Dallas Counties bounded as follows: Beginning at the intersection of Northwest 158th Avenue and County Road R38 in Polk County; thence south along R38 to Northwest 142nd Avenue; thence east along Northwest 142nd Avenue to Northeast 126th Avenue; thence east along Northeast 126th Avenue to Northeast 46th Street; thence south along Northeast 46th Street to Highway 931; thence east along Highway 931 to Northeast 80th Street; thence south along Northeast 80th Street to Southeast 6th Avenue; thence west along Southeast 6th Avenue to Highway 65; thence south and west along Highway 65 to Highway 69 in Warren County; thence south along Highway 69 to County Road G24; thence west along County Road G24 to Highway 28; thence southwest along Highway 28 to 43rd Avenue; thence north along 43rd Avenue to Ford Street; thence west along Ford Street to Filmore Street; thence west along Filmore Street to 10th Avenue; thence south along 10th Avenue to 155th Street in Madison County; thence west along 155th Street to Cumming Road; thence north along Cumming Road to Badger Creek Avenue; thence north along Badger Creek Avenue to County Road F90 in Dallas County; thence east along County Road F90 to County Road R22; thence north along County Road R22 to Highway 44; thence east along Highway 44 to County Road R30; thence north along County Road R30 to County Road F31; thence east along County Road F31 to Highway 17; thence north along Highway 17 to Highway 415 in Polk County; thence east along Highway 415 to Northwest 158th Avenue; thence east along Northwest 158th Avenue to the point of beginning.

Michigan

North Zone: The Upper Peninsula.

Middle Zone: That portion of the Lower Peninsula north of a line beginning at the Wisconsin border in Lake Michigan due west of the mouth of Stony Creek in Oceana County; then due east to, and easterly and southerly along the south shore of, Stony Creek to Scenic Drive, easterly and southerly along Scenic Drive to Stony Lake Road, easterly along Stony Lake and Garfield Roads to Michigan Highway 20, east along Michigan 20 to U.S. Highway 10 Business Route (BR) in the city of Midland, east along U.S. 10 BR to U.S. 10, east along U.S. 10 to Interstate Highway 75/U.S. Highway 23, north along I-75/U.S. 23 to the U.S. 23 exit at Standish, east along U.S. 23 to Shore Road in Arenac County, east along Shore Road to the tip of Point Lookout, then on a line directly east 10 miles into Saginaw Bay, and from that point on a line directly northeast to the Canada border.

South Zone: The remainder of Michigan.

Minnesota

Twin Cities Metropolitan Canada Goose Zone—

A. All of Hennepin and Ramsey Counties.

B. In Anoka County, all of Columbus Township lying south of County State Aid Highway (CSAH) 18, Anoka County; all of the cities of Ramsey, Andover, Anoka, Coon Rapids, Spring Lake Park, Fridley, Hilltop, Columbia Heights, Blaine, Lexington, Circle Pines, Lino Lakes, and Centerville; and all of the city of Ham Lake except that portion lying north of CSAH 18 and east of U.S. Highway 65.

C. That part of Carver County lying north and east of the following described line: Beginning at the northeast corner of San Francisco Township; thence west along the north boundary of San Francisco Township to the east boundary of Dahlgren Township; thence north along the east boundary of Dahlgren Township to U.S. Highway 212; thence west along U.S. Highway 212 to State Trunk Highway (STH) 284; thence north on STH 284 to County State Aid Highway (CSAH) 10; thence north and west on CSAH 10 to CSAH 30; thence north and west on CSAH 30 to STH 25; thence east and north on STH 25 to CSAH 10; thence north on CSAH 10 to the Carver County line.

D. In Scott County, all of the cities of Shakopee, Savage, Prior Lake, and Jordan, and all of the Townships of Jackson, Louisville, St. Lawrence, Sand Creek, Spring Lake, and Credit River.

E. In Dakota County, all of the cities of Burnsville, Eagan, Mendota Heights, Mendota, Sunfish Lake, Inver Grove Heights, Apple Valley, Lakeville, Rosemount, Farmington, Hastings, Lilydale, West St. Paul, and South St. Paul, and all of the Township of Nininger.

F. That portion of Washington County lying south of the following described line: Beginning at County State Aid Highway (CSAH) 2 on the west boundary of the county; thence east on CSAH 2 to U.S. Highway 61; thence south on U.S. Highway 61 to State Trunk Highway (STH) 97; thence east on STH 97 to the intersection of STH 97 and STH 95; thence due east to the east boundary of the State.

Northwest Goose Zone—That portion of the State encompassed by a line extending east from the North Dakota border along U.S. Highway 2 to State Trunk Highway (STH) 32, north along STH 32 to STH 92, east along STH 92 to County State Aid Highway (CSAH) 2 in Polk County, north along CSAH 2 to CSAH 27 in Pennington County, north along CSAH 27 to STH 1, east along STH 1 to CSAH 28 in Pennington County, north along CSAH 28 to CSAH 54 in Marshall County, north along CSAH 54 to CSAH 9 in Roseau County, north along CSAH 9 to STH 11, west along STH 11 to STH 310, and north along STH 310 to the Manitoba border.

Southeast Goose Zone—That part of the State within the following described boundaries: Beginning at the intersection of U.S. Highway 52 and the south boundary of the Twin Cities Metro Canada Goose Zone; thence along the U.S. Highway 52 to State Trunk Highway (STH) 57; thence along STH 57 to the municipal boundary of Kasson; thence along the municipal boundary of Kasson County State Aid Highway (CSAH) 13, Dodge County; thence along CSAH 13 to STH 30; thence along STH 30 to U.S. Highway 63; thence along U.S. Highway 63 to the south boundary of the State; thence along the south and east boundaries of the State to the south boundary of the Twin Cities Metro Canada Goose Zone; thence along said boundary to the point of beginning.

Five Goose Zone—That portion of the State not included in the Twin Cities Metropolitan Canada Goose Zone, the Northwest Goose Zone, or the Southeast Goose Zone.

West Zone—That portion of the State encompassed by a line beginning at the junction of State Trunk Highway (STH) 60 and the Iowa border, then north and east along STH 60 to U.S. Highway 71, north along U.S. 71 to Interstate Highway 94, then north and west along I-94 to the North Dakota border.

Tennessee

Middle Tennessee Zone—Those portions of Houston, Humphreys, Montgomery, Perry, and Wayne Counties east of State Highway 13; and Bedford, Cannon, Cheatham, Coffee, Davidson, Dickson, Franklin, Giles, Hickman, Lawrence, Lewis, Lincoln, Macon, Marshall, Maury, Moore, Robertson, Rutherford, Smith, Sumner, Trousdale, Williamson, and Wilson Counties.

East Tennessee Zone—Anderson, Bledsoe, Bradley, Blount, Campbell, Carter, Claiborne, Clay, Cocke, Cumberland, DeKalb, Fentress, Grainger, Greene, Grundy, Hamblen, Hamilton, Hancock, Hawkins, Jackson, Jefferson, Johnson, Knox, Loudon, Marion, McMinn, Meigs, Monroe, Morgan, Overton, Pickett, Polk, Putnam, Rhea, Roane, Scott, Sequatchie, Sevier, Sullivan, Unicoi, Union, Van Buren, Warren, Washington, and White Counties.

Wisconsin

Early-Season Subzone A—That portion of the State encompassed by a line beginning at the intersection of U.S. Highway 141 and the Michigan border near Niagara, then south along U.S. 141 to State Highway 22, west and southwest along State 22 to U.S. 45, south along U.S. 45 to State 22, west and south along State 22 to State 110, south along State 110 to U.S. 10, south along U.S. 10 to State 49, south along State 49 to State 23, west along State 23 to State 73, south along State 73 to State 60, west along State 60 to State 23, south along State 23 to State 11, east along State 11 to State 78, then south along State 78 to the Illinois border.

Early-Season Subzone B—The remainder of the State.

Central Flyway

Nebraska

September Canada Goose Unit—That part of Nebraska bounded by a line from the Nebraska-Iowa State line west on U.S. Highway 30 to U.S. Highway 81, then south on U.S. Highway 81 to NE Highway 64, then east on NE Highway 64 to NE Highway 15, then south on NE Highway 15 to NE Highway 41, then east on NE Highway 41 to NE Highway 50, then north on NE Highway 50 to NE Highway 2, then east on NE Highway 2 to the Nebraska-Iowa State line.

South Dakota

September Canada Goose Unit A—Brown, Campbell, Edmunds, Faulk, McPherson, Spink, and Walworth Counties.

September Canada Goose Unit B—Clark, Codington, Day, Deuel, Grant, Hamlin, Marshall, and Roberts Counties.

September Canada Goose Unit C—Beadle, Brookings, Hanson, Kingsbury, Lake, Lincoln, McCook, Miner, Minnehaha, Moody, Sanborn, Turner, and Union Counties.

Pacific Flyway

Idaho

East Zone—Bonneville, Caribou, Fremont, and Teton Counties.

Oregon

Northwest Zone—Benton, Clackamas, Clatsop, Columbia, Lane, Lincoln, Linn, Marion, Polk, Multnomah, Tillamook, Washington, and Yamhill Counties.

Southwest Zone—Coos, Curry, Douglas, Jackson, Josephine, and Klamath Counties.

East Zone—Baker, Gilliam, Malheur, Morrow, Sherman, Umatilla, Union, and Wasco Counties.

Washington

Area 1—Skagit, Island, and Snohomish Counties.

Area 2A (SW Quota Zone)—Clark County, except portions south of the Washougal River; Cowlitz, and Wahkiakum Counties.

Area 2B (SW Quota Zone)—Pacific County.

Area 3—All areas west of the Pacific Crest Trail and west of the Big White Salmon River that are not included in Areas 1, 2A, and 2B.

Area 4—Adams, Benton, Chelan, Douglas, Franklin, Grant, Kittitas, Lincoln, Okanogan, Spokane, and Walla Walla Counties.

Area 5—All areas east of the Pacific Crest Trail and east of the Big White Salmon River that are not included in Area 4.

Ducks

Atlantic Flyway

New York

Lake Champlain Zone: The U.S. portion of Lake Champlain and that area east and north of a line extending along NY 9B from the Canadian border to U.S. 9, south along U.S. 9 to NY 22 south of Keesville; south along NY 22 to the west shore of South Bay, along and around the shoreline of South Bay to NY 22 on the east shore of South Bay; southeast along NY 22 to U.S. 4, northeast along U.S. 4 to the Vermont border.

Long Island Zone: That area consisting of Nassau County, Suffolk County, that area of Westchester County southeast of I-95, and their tidal waters.

Western Zone: That area west of a line extending from Lake Ontario east along the north shore of the Salmon River to I-81, and south along I-81 to the Pennsylvania border.

Northeastern Zone: That area north of a line extending from Lake Ontario east along the north shore of the Salmon River to I-81, south along I-81 to NY 49, east along NY 49 to NY 365, east along NY 365 to NY 28, east along NY 28 to NY 29, east along NY 29 to I-87, north along I-87 to U.S. 9 (at Exit 20), north along U.S. 9 to NY 149, east along NY 149 to U.S. 4, north along U.S. 4 to the Vermont border, exclusive of the Lake Champlain Zone.

Southeastern Zone: The remaining portion of New York.

Mississippi Flyway

Indiana

North Zone: That portion of the State north of a line extending east from the Illinois border along State Road 18 to U.S. Highway 31, north along U.S. 31 to U.S. 24, east along U.S. 24 to Huntington, then southeast along U.S. 224 to the Ohio border.

Ohio River Zone: That portion of the State south of a line extending east from the Illinois border along Interstate Highway 64 to New Albany, east along State Road 62 to State 56, east along State 56 to Vevay, east and north on State 156 along the Ohio River to North Landing, north along State 56 to U.S. Highway 50, then northeast along U.S. 50 to the Ohio border.

South Zone: That portion of the State between the North and Ohio River Zone boundaries.

Iowa

North Zone: That portion of the State north of a line extending east from the Nebraska border along State Highway 175 to State Highway 37, southeast along State Highway 37 to State Highway 183, northeast along State Highway 183 to State Highway 141, east along State Highway 141 to U.S. Highway 30, then east along U.S. Highway 30 to the Illinois border.

South Zone: The remainder of Iowa.

Central Flyway

Colorado

Special Teal Season Area: Lake and Chaffee Counties and that portion of the State east of Interstate Highway 25.

Kansas

High Plains Zone: That portion of the State west of U.S. 283.

Low Plains Early Zone: That area of Kansas east of U.S. 283, and generally west of a line beginning at the Junction of the Nebraska State line and KS 28; south on KS 28 to U.S. 36; east on U.S. 36 to KS 199; south on KS 199 to Republic Co. Road 563; south on Republic Co. Road 563 to KS 148; east on KS 148 to Republic Co. Road 138; south on Republic Co. Road 138 to Cloud Co. Road 765; south on Cloud Co. Road 765 to KS 9; west on KS 9 to U.S. 24; west on U.S. 24 to U.S. 281; north on U.S. 281 to U.S. 36; west on U.S. 36 to U.S. 183; south on U.S. 183 to U.S. 24; west on U.S. 24 to KS 18; southeast on KS 18 to U.S. 183; south on U.S. 183 to KS 4; east on KS 4 to I-135; south on I-135 to KS 61; southwest on KS 61 to KS 96; northwest on KS 96 to U.S. 56; west on U.S. 56 to U.S. 281; south on U.S. 281 to U.S. 54; west on U.S. 54 to U.S. 183; north on U.S. 183 to U.S. 56; and southwest on U.S. 56 to U.S. 283.

Low Plains Late Zone: The remainder of Kansas.

Nebraska

Special Teal Season Area: That portion of the State south of a line beginning at the Wyoming State line; east along U.S. 26 to Nebraska Highway L62A east to U.S. 385; south to U.S. 26; east to NE 92; east along NE 92 to NE 61; south along NE 61 to U.S. 30; east along U.S. 30 to the Iowa border.

New Mexico (Central Flyway Portion)

North Zone: That portion of the State north of I-40 and U.S. 54.

South Zone: The remainder of New Mexico.

Pacific Flyway

California

Northeastern Zone: In that portion of California lying east and north of a line beginning at the intersection of Interstate 5 with the California-Oregon line; south along Interstate 5 to its junction with Walters Lane south of the town of Yreka; west along Walters Lane to its junction with Easy Street; south along Easy Street to the junction with Old Highway 99; south along Old Highway 99 to the point of intersection with Interstate 5 north of the town of Weed; south along Interstate 5 to its junction with Highway 89; east and south along Highway 89 to Main Street Greenville; north and east to its junction with North Valley Road; south to its junction of Diamond Mountain Road; north and east to its junction with North Arm Road; south and west to the junction of North Valley Road; south to the junction with Arlington Road (A22); west to the junction of Highway 89; south and west to the junction of Highway 70; east on Highway 70 to Highway 395; south and east on Highway 395 to the point of intersection with the California-Nevada state line; north along the California-Nevada State line to the junction of the California-Nevada-Oregon State lines west along the California-Oregon State line to the point of origin.

Colorado River Zone: Those portions of San Bernardino, Riverside, and Imperial Counties east of a line extending from the Nevada border south along U.S. 95 to Vidal Junction; south on a road known as “Aqueduct Road” in San Bernardino County through the town of Rice to the San Bernardino-Riverside County line; south on a road known in Riverside County as the “Desert Center to Rice Road” to the town of Desert Center; east 31 miles on I-10 to the Wiley Well Road; south on this road to Wiley Well; southeast along the Army-Milpitas Road to the Blythe, Brawley, Davis Lake intersections; south on the Blythe-Brawley paved road to the Ogilby and Tumco Mine Road; south on this road to U.S. 80; east 7 miles on U.S. 80 to the Andrade-Algodones Road; south on this paved road to the Mexican border at Algodones, Mexico.

Southern Zone: That portion of southern California (but excluding the Colorado River Zone) south and east of a line extending from the Pacific Ocean east along the Santa Maria River to CA 166 near the City of Santa Maria; east on CA 166 to CA 99; south on CA 99 to the crest of the Tehachapi Mountains at Tejon Pass; east and north along the crest of the Tehachapi Mountains to CA 178 at Walker Pass; east on CA 178 to U.S. 395 at the town of Inyokern; south on U.S. 395 to CA 58; east on CA 58 to I-15; east on I-15 to CA 127; north on CA 127 to the Nevada border.

Southern San Joaquin Valley Temporary Zone: All of Kings and Tulare Counties and that portion of Kern County north of the Southern Zone.

Balance-of-the-State Zone: The remainder of California not included in the Northeastern, Southern, and Colorado River Zones, and the Southern San Joaquin Valley Temporary Zone.

Canada Geese

Michigan

MVP—Upper Peninsula Zone: The MVP—Upper Peninsula Zone consists of the entire Upper Peninsula of Michigan.

MVP—Lower Peninsula Zone: The MVP—Lower Peninsula Zone consists of the area within the Lower Peninsula of Michigan that is north and west of the point beginning at the southwest corner of Branch County, north continuing along the western border of Branch and Calhoun Counties to the northwest corner of Calhoun County, then east to the southwest corner of Eaton County, then north to the southern border of Ionia County, then east to the southwest corner of Clinton County, then north along the western border of Clinton County continuing north along the county border of Gratiot and Montcalm Counties to the southern border of Isabella county, then east to the southwest corner of Midland County, then north along the west Midland County border to Highway M-20, then easterly to U.S. Highway 10, then easterly to U.S. Interstate 75/U.S. Highway 23, then northerly along I-75/U.S. 23 and easterly on U.S. 23 to the centerline of the Au Gres River, then southerly along the centerline of the Au Gres River to Saginaw Bay, then on a line directly east 10 miles into Saginaw Bay, and from that point on a line directly northeast to the Canadian border.

SJBP Zone is the rest of the State, that area south and east of the boundary described above.

Sandhill Cranes

Central Flyway

Colorado

The Central Flyway portion of the State except the San Luis Valley (Alamosa, Conejos, Costilla, Hinsdale, Mineral, Rio Grande, and Saguache Counties east of the Continental Divide) and North Park (Jackson County).

Kansas

That portion of the State west of a line beginning at the Oklahoma border, north on I-35 to Wichita, north on I-135 to Salina, and north on U.S. 81 to the Nebraska border.

Montana

The Central Flyway portion of the State except for that area south and west of Interstate 90, which is closed to sandhill crane hunting.

New Mexico

Regular-Season Open Area—Chaves, Curry, De Baca, Eddy, Lea, Quay, and Roosevelt Counties.

Middle Rio Grande Valley Area—The Central Flyway portion of New Mexico in Socorro and Valencia Counties.

Estancia Valley Area—Those portions of Santa Fe, Torrance and Bernallilo Counties within an area bounded on the west by New Mexico Highway 55 beginning at Mountainair north to NM 337, north to NM 14, north to I-25; on the north by I-25 east to U.S. 285; on the east by U.S. 285 south to U.S. 60; and on the south by U.S. 60 from U.S. 285 west to NM 55 in Mountainair.

Southwest Zone—Sierra, Luna, Dona Ana Counties, and those portions of Grant and Hidalgo Counties south of I-10.

North Dakota

Area 1—That portion of the State west of U.S. 281.

Area 2—That portion of the State east of U.S. 281.

Oklahoma

That portion of the State west of I-35.

South Dakota

That portion of the State west of U.S. 281.

Texas

Zone A—That portion of Texas lying west of a line beginning at the international toll bridge at Laredo, thence northeast along U.S. Highway 81 to its junction with Interstate Highway 35 in Laredo, thence north along Interstate Highway 35 to its junction with Interstate Highway 10 in San Antonio, thence northwest along Interstate Highway 10 to its junction with U.S. Highway 83 at Junction, thence north along U.S. Highway 83 to its junction with U.S. Highway 62, 16 miles north of Childress, thence east along U.S. Highway 62 to the Texas-Oklahoma State line.

Zone B—That portion of Texas lying within boundaries beginning at the junction of U.S. Highway 81 and the Texas-Oklahoma State line, thence southeast along U.S. Highway 81 to its junction with U.S. Highway 287 in Montague County, thence southeast along U.S. Highway 287 to its junction with Interstate Highway 35W in Fort Worth, thence southwest along Interstate Highway 35 to its junction with Interstate Highway 10 in San Antonio, thence northwest along Interstate Highway 10 to its junction with U.S. Highway 83 in Junction, thence north along U.S. Highway 83 to its junction with U.S. Highway 62, 16 miles north of Childress, thence east along U.S. Highway 62 to the Texas-Oklahoma State line, thence south along the Texas-Oklahoma state line to the south bank of the Red River, thence eastward along the vegetation line on the south bank of the Red River to U.S. Highway 81.

Zone C—The remainder of the State, except for the closed areas.

Closed areas—(A) That portion of the State lying east and north of a line beginning at the junction of U.S. Highway 81 and the Texas-Oklahoma State line, thence southeast along U.S. Highway 81 to its junction with U.S. Highway 287 in Montague County, thence southeast along U.S. Highway 287 to its junction with Interstate Highway 35W in Fort Worth, thence southwest along Interstate Highway 35 to its junction with U.S. Highway 290 East in Austin, thence east along U.S. Highway 290 to its junction with Interstate Loop 610 in Harris County, thence south and east along Interstate Loop 610 to its junction with Interstate Highway 45 in Houston, thence south on Interstate Highway 45 to State Highway 342, thence to the shore of the Gulf of Mexico, and thence north and east along the shore of the Gulf of Mexico to the Texas-Louisiana State line.

(B) That portion of the State lying within the boundaries of a line beginning at the Kleberg-Nueces County line and the shore of the Gulf of Mexico, thence west along the County line to Park Road 22 in Nueces County, thence north and west along Park Road 22 to its junction with State Highway 358 in Corpus Christi, thence west and north along State Highway 358 to its junction with State Highway 286, thence north along State Highway 286 to its junction with Interstate Highway 37, thence east along Interstate Highway 37 to its junction with U.S. Highway 181, thence north and west along U.S. Highway 181 to its junction with U.S. Highway 77 in Sinton, thence north and east along U.S. Highway 77 to its junction with U.S. Highway 87 in Victoria, thence south and east along U.S. Highway 87 to its junction with State Highway 35 at Port Lavaca, thence north and east along State Highway 35 to the south end of the Lavaca Bay Causeway, thence south and east along the shore of Lavaca Bay to its junction with the Port Lavaca Ship Channel, thence south and east along the Lavaca Bay Ship Channel to the Gulf of Mexico, and thence south and west along the shore of the Gulf of Mexico to the Kleberg-Nueces County line.

Wyoming

Regular-Season Open Area—Campbell, Converse, Crook, Goshen, Laramie, Niobrara, Platte, and Weston Counties.

Riverton-Boysen Unit—Portions of Fremont County.

Park and Big Horn County Unit—Portions of Park and Big Horn Counties.

Pacific Flyway

Arizona

Special-Season Area—Game Management Units 30A, 30B, 31, and 32.

Montana

Special-Season Area—See State regulations.

Utah

Special-Season Area—Rich, Cache, and Unitah Counties and that portion of Box Elder County beginning on the Utah-Idaho State line at the Box Elder-Cache County line; west on the State line to the Pocatello Valley County Road; south on the Pocatello Valley County Road to I-15; southeast on I-15 to SR-83; south on SR-83 to Lamp Junction; west and south on the Promontory Point County Road to the tip of Promontory Point; south from Promontory Point to the Box Elder-Weber County line; east on the Box Elder-Weber County line to the Box Elder-Cache County line; north on the Box Elder-Cache County line to the Utah-Idaho State line.

Wyoming

Bear River Area—That portion of Lincoln County described in State regulations.

Salt River Area—That portion of Lincoln County described in State regulations.

Farson-Eden Area—Those portions of Sweetwater and Sublette Counties described in State regulations.

All Migratory Game Birds in Alaska

North Zone—State Game Management Units 11-13 and 17-26.

Gulf Coast Zone—State Game Management Units 5-7, 9, 14-16, and 10 (Unimak Island only).

Southeast Zone—State Game Management Units 1-4.

Pribilof and Aleutian Islands Zone—State Game Management Unit 10 (except Unimak Island).

Kodiak Zone—State Game Management Unit 8.

All Migratory Game Birds in the Virgin Islands

Ruth Cay Closure Area—The island of Ruth Cay, just south of St. Croix.

All Migratory Game Birds in Puerto Rico

Municipality of Culebra Closure Area—All of the municipality of Culebra.

Desecheo Island Closure Area—All of Desecheo Island.

Mona Island Closure Area—All of Mona Island.

El Verde Closure Area—Those areas of the municipalities of Rio Grande and Loiza delineated as follows: (1) All lands between Routes 956 on the west and 186 on the east, from Route 3 on the north to the juncture of Routes 956 and 186 (Km 13.2) in the south; (2) all lands between Routes 186 and 966 from the juncture of 186 and 966 on the north, to the Caribbean National Forest Boundary on the south; (3) all lands lying west of Route 186 for 1 kilometer from the juncture of Routes 186 and 956 south to Km 6 on Route 186; (4) all lands within Km 14 and Km 6 on the west and the Caribbean National Forest Boundary on the east; and (5) all lands within the Caribbean National Forest Boundary whether private or public.

Cidra Municipality and adjacent areas—All of Cidra Municipality and portions of Aguas Buenas, Caguas, Cayey, and Comerio Municipalities as encompassed within the following boundary: Beginning on Highway 172 as it leaves the municipality of Cidra on the west edge, north to Highway 156, east on Highway 156 to Highway 1, south on Highway 1 to Highway 765, south on Highway 765 to Highway 763, south on Highway 763 to the Rio Guavate, west along Rio Guavate to Highway 1, southwest on Highway 1 to Highway 14, west on Highway 14 to Highway 729, north on Highway 729 to Cidra Municipality boundary to the point of the beginning.

[FR Doc. E7-14071 Filed 7-20-07; 8:45 am]

BILLING CODE 4310-55-P